DEPARTMENT OF COMMERCE

National Oceanic and Atmospheric Administration

50 CFR Parts 300 and 679

[Docket No. 151001910-6690-01]

RIN 0648-BF42

Fisheries of the Exclusive Economic Zone Off Alaska; Allow the Use of Longline Pot Gear in the Gulf of Alaska Sablefish Individual Fishing Quota Fishery; Amendment 101

AGENCY: National Marine Fisheries Service (NMFS), National Oceanic and Atmospheric Administration (NOAA), Commerce.

ACTION: Proposed rule; request for comments.

SUMMARY: NMFS issues a proposed rule to implement Amendment 101 to the Fishery Management Plan for Groundfish of the Gulf of Alaska (GOA FMP) for the sablefish individual fishing quota (IFQ) fisheries in the Gulf of Alaska (GOA). This proposed rule would authorize the use of longline pot gear in the GOA sablefish IFQ fishery. This proposed rule would establish management measures to minimize potential conflicts between hook-and-line and longline pot gear used in the sablefish IFQ fisheries in the GOA. This proposed rule also includes proposed regulations developed under the Northern Pacific Halibut Act of 1982 (Halibut Act) to authorize harvest of halibut IFQ caught incidentally in longline pot gear used in the GOA sablefish IFQ fishery. This proposed rule is necessary to improve efficiency and provide economic benefits for the sablefish IFQ fleet and minimize potential fishery interactions with whales and seabirds. This action is intended to promote the goals and objectives of the Magnuson-Stevens Fishery Conservation and Management Act, the Halibut Act, the GOA FMP, and other applicable laws.

DATES: Submit comments on or before September 19, 2016.

ADDRESSES: You may submit comments on this document, identified by NOAA-NMFS-2015-0126, by any of the following methods:

• Electronic Submission: Submit all electronic public comments via the Federal e-Rulemaking Portal. Go to www.regulations.gov/#!docketDetail;D=NOAA-NMFS-2015-0126, click the “Comment Now!” icon, complete the required fields, and enter or attach your comments.

• Mail: Submit written comments to Glenn Merrill, Assistant Regional Administrator, Sustainable Fisheries Division, Alaska Region NMFS, Attn: Ellen Sebastian. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

Electronic copies of Amendment 101 to the GOA FMP, the Environmental Assessment, Regulatory Impact Review (RIR), and the Initial Regulatory Flexibility Analysis (IRFA) (collectively, Analysis) prepared for this action are available from www.regulations.gov or from the NMFS Alaska Region Web site at alaskafisheries.noaa.gov.

Written comments regarding the burden-hour estimates or other aspects of the collection-of-information requirements contained in this rule may be submitted by mail to NMFS at the above address; by email to OIRA_Submission@omb.eop.gov; or by fax to 202-395-5806.

FOR FURTHER INFORMATION CONTACT: Rachel Baker, 907-586-7228.

SUPPLEMENTARY INFORMATION:

Authority for Action

NMFS manages U.S. groundfish fisheries of the GOA under the GOA FMP. The North Pacific Fishery Management Council (Council) prepared, and the Secretary of Commerce (Secretary) approved, the GOA FMP under the authority of the Magnuson-Stevens Fishery Conservation and Management Act (Magnuson-Stevens Act), 16 U.S.C. 1801 et seq. Regulations governing U.S. fisheries and implementing the GOA FMP appear at 50 CFR parts 600 and 679. Sablefish (Anoplopoma fimbria) is managed as a groundfish species under the GOA FMP. The Council is authorized to prepare an FMP amendment for conservation and management of a fishery managed under the FMP. NMFS conducts rulemaking to implement FMP and regulatory amendments.

The International Pacific Halibut Commission (IPHC) and NMFS manage fishing for Pacific halibut (Hippoglossus stenolepis) through regulations at 50 CFR part 300, subpart E, established under authority of the Northern Pacific Halibut Act of 1982 (Halibut Act), 16 U.S.C. 773-773k. The IPHC adopts annual management measures governing fishing for halibut under the Convention between the United States and Canada for the Preservation of the Halibut Fishery of the North Pacific Ocean and Bering Sea (Convention), signed at Ottawa, Ontario, on March 2, 1953, as amended by a Protocol Amending the Convention (signed at Washington, DC, on March 29, 1979). The IPHC regulations are subject to acceptance by the Secretary of State with concurrence from the Secretary. After acceptance by the Secretary of State and the Secretary, NMFS publishes the annual management measures in the Federal Register pursuant to 50 CFR 300.62. The final rule implementing the 2016 annual management measures published March 16, 2016 (81 FR 14000). The Halibut Act, at section 773c(c), also authorizes the Council to develop halibut fishery regulations, including limited access regulations, that are in addition to, and not in conflict with, approved IPHC regulations.

Under the authority of the GOA FMP and the Halibut Act, the Council has recommended and NMFS has established regulations that implement the IFQ Program. The IFQ Program allocates sablefish and halibut harvesting privileges among U.S. fishermen. NMFS manages the IFQ Program pursuant to regulations at 50 CFR part 679 and 50 CFR part 300 under the authority of section 773c of the Halibut Act and section 303(b) of the Magnuson-Stevens Act. The Council has recommended Amendment 101 to the GOA FMP (Amendment 101) to amend provisions of the GOA FMP applicable to the sablefish IFQ fishery and implementing regulations applicable to the sablefish IFQ fisheries. FMP amendments and regulations developed by the Council may be implemented by NMFS only after approval by the Secretary. This proposed rule also includes regulations developed by the Council under the Halibut Act to authorize harvest of halibut IFQ caught incidentally in longline pot gear used in the GOA sablefish IFQ fishery. Halibut fishery regulations developed by the Council may by implemented by NMFS only after approval of the Secretary in consultation with the United States Coast Guard.

A notice of availability for Amendment 101 was published in the Federal Register on August 8, 2016 (81 FR 52394). Comment on Amendment 101 is invited through October 7, 2016. Written comments may address Amendment 101, this proposed rule, or both, but must be received by October 7, 2016, to be considered in the decision to approve or disapprove Amendment 101.

Background

NMFS proposes regulations to implement Amendment 101 for the sablefish IFQ fisheries in the GOA and regulations to authorize harvest of halibut IFQ caught incidentally in longline pot gear used in the GOA sablefish IFQ fishery. This proposed rule would make three types of changes to the sablefish and halibut IFQ Program. First, this proposed rule would authorize longline pot gear to harvest sablefish IFQ in the GOA. Under current regulations, only longline gear is authorized for the GOA sablefish IFQ fishery. Longline gear includes hook-and-line, jig, troll, and handline gear. Participants have used longline hook-and-line gear (hook-and-line gear) to harvest sablefish IFQ in the GOA because it is more efficient than jig, troll, or handline gear. However, various species of whales can remove or damage sablefish caught on hook-and-line gear (depredation). Depredation occurs with hook-and-line gear because sablefish are captured on hooks that lie on the ocean floor. Whales can completely remove or damage sablefish captured on these hooks before the gear is retrieved. Longline pot is an efficient gear and prevents depredation because whales cannot remove or damage sablefish enclosed in a pot. This proposed rule would authorize, but not require, vessel operators to use longline pot gear in the GOA sablefish IFQ fishery.

Second, this proposed rule would implement several regulations to minimize potential interactions between hook-and-line gear and longline pot gear. These provisions include a pot limit, requirements for vessel operators to use pot tags issued by NMFS, requirements that longline pot gear be redeployed within a certain amount of time after being deployed, requirements that longline pot gear be removed from the fishing grounds when making a sablefish landing, and requirements to mark longline pot gear deployed on the fishing grounds.

Third, to minimize halibut discards in the GOA sablefish IFQ fishery, this proposed rule would implement a requirement for halibut IFQ harvesters to retain halibut IFQ caught incidentally in longline pots.

This proposed rule would improve efficiency in harvesting sablefish IFQ and reduce adverse economic impacts on harvesters that occur from depredation. This proposed rule would mitigate impacts on sablefish IFQ harvesters using hook-and-line gear by minimizing the potential for interactions between hook-and-line gear and longline pot gear. Finally, this proposed rule would reduce whale and seabird interactions with fishing gear in the GOA sablefish IFQ fishery.

The following sections of this preamble describe 1) the sablefish fishery in the GOA, 2), the need for Amendment 101 and this proposed rule, 3) the impacts of Amendment 101 and this proposed rule, and 4) the specific provisions that would be implemented by this proposed rule.

Sablefish Fishery in the GOA

IFQ Program

The commercial sablefish fisheries in the GOA and the Bering Sea and Aleutian Islands management area (BSAI) are managed primarily under the IFQ Program. The Council and NMFS designed the IFQ Program to allocate harvest privileges among participants in the hook-and-line fishery to reduce fishing capacity that had led to an unsafe “race for fish” as vessels raced to harvest their allocation of the annual total allowable catch (TAC) of sablefish as quickly as possible before the TAC was reached. The IFQ Program design and subsequent amendments were intended to support the social and economic character of the fisheries and the coastal fishing communities where many of these fisheries are based. NMFS also allocates a small portion of the annual sablefish TAC to vessels using trawl gear. The trawl sablefish fishery is not managed under the IFQ Program, and this proposed rule does not modify regulations applicable to the trawl sablefish fishery.

The commercial halibut fisheries in the GOA and the BSAI are also managed under the IFQ Program. The halibut fisheries experienced overcapacity and short fishing seasons similar to the sablefish fisheries. In addition, many fishermen participate in both fisheries because the species overlap in some fishing areas and are harvested with the same type of fishing gear.

The IFQ Program was implemented in 1995 (58 FR 59375, November 9, 1993). Under the IFQ Program, access to the non-trawl sablefish and halibut fisheries is limited to those persons holding quota share. NMFS issued separate quota share for sablefish and halibut to qualified applicants based on their historical participation during a set of qualifying years in the sablefish and halibut fisheries. Quota share is an exclusive, revocable privilege that allows the holder to harvest a specific percentage of either the TAC in the sablefish fishery or the annual commercial catch limit in the halibut fishery. In addition to being specific to sablefish or halibut, quota share are designated for specific geographic areas of harvest, a specific vessel operation type (catcher vessel or catcher/processor), and for a specific range of vessel sizes that may be used to harvest the sablefish or halibut (vessel category).

Quota share allocation is given effect on an annual basis through the issuance of an IFQ permit. An annual IFQ permit authorizes the permit holder to harvest a specified amount of the IFQ species in a regulatory area from a specific operation type and vessel category. IFQ is expressed in pounds and is based on the amount of quota share held in relation to the total quota share pool for each regulatory area with an assigned catch limit.

Implementation of the IFQ Program ended the race for fish by providing IFQ permit holders with an exclusive portion of the sablefish TAC or annual commercial catch limit in the halibut fishery. This provided fishermen with flexibility to determine when and where they would fish sablefish and halibut IFQ. The fishing season for sablefish and halibut was expanded from a few days to nine months following implementation of the IFQ Program. Sections 3.1 and 4.5 of the Analysis (see ADDRESSES) provide additional information on the IFQ Program and the GOA sablefish IFQ fishery.

IFQ Regulatory Areas

The IFQ fisheries are prosecuted in accordance with catch limits established by regulatory area. The sablefish IFQ regulatory areas defined for sablefish in the GOA are the Southeast Outside District of the GOA (SEO), West Yakutat District of the GOA (WY), Central GOA (CGOA), and Western GOA (WGOA). The sablefish regulatory areas are defined and shown in Figure 14 to part 679. This proposed rule preamble refers to these areas collectively as sablefish areas.

This proposed rule would implement provisions that affect halibut IFQ fisheries in the GOA. The halibut regulatory areas (halibut areas) are defined by the IPHC, described in Section 6 of the annual management measures (81 FR 14000, March 16, 2016), and shown in Figure 15 to part 679. The halibut areas are not separated into GOA or BSAI management areas like sablefish areas. The halibut areas encompass different geographic areas than the sablefish areas, and the boundary lines do not coincide except at the border between the United States and Canada.

The halibut areas in the GOA include Areas 2C, 3A, 3B, and part of Area 4A. All of these areas except Area 4A are completely contained in the GOA. The portion of Area 4A in waters south of the Aleutian Islands, west of Area 3B and east of 170° W. longitude, is included in the WGOA sablefish area. This affected area includes the western part of the WGOA sablefish area and a small strip along the eastern border (east of 170° W. longitude) of the Aleutian Islands sablefish area in the BSAI. Figure 1 and Figure 11 in the Analysis show the boundaries of the sablefish and halibut areas.

Retention of Halibut

Sablefish IFQ fishermen who also hold halibut IFQ are required to retain halibut that are 32 inches or greater in length (legal size) harvested in the sablefish IFQ fishery, provided they have remaining halibut IFQ. This regulation was implemented with the IFQ Program in 1995 and is intended to promote full utilization of halibut by reducing discards of halibut caught incidentally in the sablefish IFQ fishery. Section 4.5 of the Analysis states that many IFQ fishermen hold sablefish and halibut IFQ, and the species can overlap in some fishing areas (58 FR 59375, November 9, 1993).

Authorized Gear

This proposed rule would revise regulations to add a new authorized gear for catcher vessels and catcher/processors participating in the GOA sablefish IFQ fishery. Under § 679.2, vessels in the GOA sablefish IFQ fishery are authorized to use only longline gear (e.g., hook-and-line gear). Catcher vessels and catcher/processors in the BSAI sablefish IFQ fishery are authorized to use longline gear and pot gear. Pot gear includes pot-and-line gear and longline pot gear. Pot-and-line gear is pot gear with a stationary, buoyed line with a single pot attached. Longline pot gear is pot gear with a stationary, buoyed, and anchored line with two or more pots attached. Longline pot gear is often deployed as a series of many pots attached together in a “string” of gear. For additional information on longline gear, pot-and-line, and longline pot gear see the definition of Authorized Fishing Gear in § 679.2.

Longline pot gear was historically used to harvest sablefish in the GOA. However, under the open access management program that existed prior to the implementation of the IFQ Program, vessel operators sometimes deployed hook-and-line and pot gear in the same fishing areas. This resulted in gear conflicts and the loss of gear on the fishing grounds. The longline pot groundline (i.e., the line attaching the pots together) is heavier and stronger than the groundline used to attach the series of hooks on hook-and-line gear. If longline pot gear is set over previously deployed hook-and-line gear, the weaker hook-and-line gear can be damaged or lost as it is being retrieved. The Council and NMFS have not received reports of gear conflicts between hook-and-line gear.

Deployment of hook-and-line and pot gear in the same fishing areas also resulted in grounds preemption under the race for fish. Fishing grounds preemption occurs when a fisherman sets marked gear in an area and prevents other fishery participants from setting gear in the same area. Pot gear is generally soaked for multiple days so that smaller, less valuable fish are able to swim out of the pots. This optimizes fishing effort by allowing fishermen to use their knowledge of catch rates and fish size in a particular area to choose the amount of soak time that selects for larger fish, but allows them to keep rotating and re-baiting their pot longline gear. Fishing grounds can be preempted for an extended period of time by pot gear, for example, when a vessel hauls, re-baits, and redeploys the gear in the same area while they return to port to make a landing. Fishing grounds preemption has not occurred between hook-and-line gear because the gear is deployed for less than 24 hours before hauling. Section 2.1.1 of the Analysis provides additional information on interactions between hook-and-line and pot gear prior to implementation of the IFQ Program, and a brief summary follows.

In 1986, NMFS implemented a phased-in prohibition of pot gear in the GOA sablefish fishery (50 FR 43193, October 24, 1985) to eliminate gear conflicts between hook-and-line and pot gear. In 1992, the Council recommended, and NMFS approved, a prohibition on the use of longline pot gear in the sablefish fishery in the Bering Sea subarea (57 FR 37906, August 21, 1992). The Council recommended a prohibition against longline pot gear in the Bering Sea subarea to prevent longline pot gear from preempting access to fishing grounds by hook-and-line gear. The Council did not recommend a prohibition on longline pot gear in the Aleutian Islands subarea because the Council did not receive reports of gear conflicts in that sablefish area.

During the same period in the early 1990s, the Council developed and recommended the IFQ Program for a hook-and-line gear fishery for sablefish and halibut in the GOA and BSAI. Fishing under the IFQ Program began in 1995 (58 FR 59375, November 9, 1993). The IFQ Program extended the fishing season and allowed the sablefish and halibut fleets to spread out fishing operations over time. The IFQ Program reduced the possibility of gear conflicts and preemption of common fishing grounds that had previously affected the fisheries (73 FR 28733, May 19, 2008).

During the first IFQ season in 1995, fishing industry representatives reported to the Council that the Bering Sea sablefish TAC had not been fully harvested due, in part, to depredation on hook-and-line gear. Depredation negatively impacts the sablefish IFQ fleet through reduced catch rates and increased operating costs. Depredation also has negative consequences for whales through increased risk of vessel strike, gear entanglement, and altered foraging strategies. Based on this information, the Council determined that authorizing longline pot gear in the Bering Sea sablefish IFQ fishery could reduce depredation. The Council also determined that implementation of the IFQ Program had substantially reduced the possibility of gear conflicts and a complete prohibition on longline pot gear was not necessary. The Council and NMFS recognized that the reintroduction of longline pot gear into the Bering Sea sablefish IFQ fishery posed less of a concern for fishing grounds preemption in 1996 than in 1992, when longline pot gear originally was prohibited. Authorizing the use of longline pot gear in the Bering Sea sablefish IFQ fishery allowed fishermen to use fishing gear that would reduce interactions with whales.

On September 18, 1996, NMFS published a final rule to replace the year-round longline pot gear prohibition with a regulation that allowed the use of longline pot gear except during the month of June (61 FR 49076). The Council and NMFS decided to retain the prohibition on longline pot gear in June because it generally has fair weather, and small vessels using hook-and-line gear that would otherwise be subject to pre-emption tend to operate primarily during June.

In October 2004, a representative for longline pot fishermen in the Bering Sea proposed that gear competition between the sablefish longline pot fleet and the hook-and-line fleet had not occurred in June, and asserted that the regulatory prohibition on the use of longline pot gear during June was unnecessary and burdensome. After review of an analysis and public testimony, the Council recommended, and NMFS implemented, a regulation to remove the prohibition on the use of longline pot gear during June in the Bering Sea sablefish IFQ fishery (73 FR 28733, May 19, 2008). Currently, both longline pot and hook-and-line gear is authorized during the entire year in both the Bering Sea and Aleutian Islands sablefish fisheries.

Need for Amendment 101 and This Proposed Rule

Beginning in 2009, the Council and NMFS received reports from fishermen in the GOA that there have been numerous sperm whale and killer whale interactions with the sablefish fleet in the GOA. Sperm whale depredation is most common in the CGOA, WY, and SEO sablefish areas and killer whale depredation is most common in the WGOA and BSAI. Section 3.4.1.1 of the Analysis provides the most recent information on depredation in the sablefish IFQ fishery, and Figure 17 in the Analysis shows a map of observed depredation on sablefish longline surveys. While depredation events are difficult to observe because depredation occurs on the ocean floor in deep water, fishery participants have testified to the Council that depredation continues to be a major cost to the sablefish IFQ fishery, and appears to be occurring more frequently.

Depredation can result in lost catch, additional time waiting for whales to leave fishing grounds before hauling gear, and additional time and fuel spent relocating to avoid whales. Depredation can reduce fishing efficiency by increasing operating costs (e.g., fuel, labor) and the opportunity cost of time lost that would have been available for additional fishing effort or dedicated to other fishing and non-fishing activities. Section 3.4.1.1 of the Analysis notes that depredation can reduce harvesting efficiency and impose substantial costs on fishermen using hook-and-line gear, thereby reducing revenue in the sablefish IFQ fishery.

Industry groups have tested a variety of methods to deter whales from preying on fish caught on hook-and-line gear, such as gear modifications and acoustic decoys, but these methods have not substantially reduced the problem of depredation in the GOA sablefish IFQ fishery. A summary of efforts to mitigate whale depredation in Alaska and elsewhere is provided in Section 4.7 of the Analysis.

Participants in the GOA sablefish IFQ fishery indicated to the Council and NMFS that authorizing longline pot gear in the GOA sablefish IFQ fishery would reduce the adverse impacts of depredation for those vessel operators who choose to switch from hook-and-line gear. The Council and NMFS agree that interactions with whales throughout the GOA could affect the ability of sablefish IFQ permit holders to harvest sablefish by reducing catch per unit of effort and decreasing fishing costs. Section 1.2 of the Analysis provides additional information on the Council's development and recommendation of Amendment 101 and this proposed rule.

The following section describes the impacts of Amendment 101 and this proposed rule on affected fishery participants and on the environment.

Impacts of Amendment 101 and This Proposed Rule

Impacts on the Sablefish IFQ Fishery

Section 4.9.2 of the Analysis notes that vessel operators using longline pot gear would benefit from this proposed rule from reduced operating costs and reduced fishing time needed to harvest sablefish IFQ. This proposed rule would provide vessel operators with the option to use longline pot gear if they determine it is appropriate for their fishing operation.

The Analysis states that it is not possible to estimate how many vessel operators would switch to longline pot gear from hook-and-line gear under this proposed rule. The total number of vessels using longline pot gear likely would be limited by the costs of longline pot gear and vessel reconfiguration. The Analysis estimates that the cost to purchase longline pot gear and reconfigure a vessel could be $100,000 or more depending on the configuration of the vessel. For some vessel operators, the costs of reconfiguration likely would be prohibitive. The Analysis suggests that vessel operators who already use pot gear in other fisheries (e.g., Pacific cod) could be the most likely operators to use longline pot gear in the GOA sablefish IFQ fishery because their conversion costs likely would be lower relative to participants who use only hook-and-line gear. Of the 404 catcher vessels harvesting sablefish IFQ in the GOA between 2009 and 2013, 40 vessels deployed pot gear in another fishery.

As described in Section 3.4.1.2 of the Analysis, no temporal or seasonal shift in sablefish IFQ fishing is expected to occur under this proposed rule. Harvest of sablefish IFQ would be authorized only during the sablefish fishing period specified at § 679.23(g)(1) and established by the Council and NMFS through the annual harvest specifications (81 FR 14740, March 18, 2016). Harvest of sablefish IFQ would be limited to the TAC for the GOA sablefish IFQ fishery established by the Council and NMFS through the annual harvest specifications (81 FR 14740, March 18, 2016).

If some portion of the sablefish IFQ fleet switches to longline pot gear, there would likely be decreased interactions between killer whales and sperm whales and the sablefish fishery. Unaccounted sablefish mortality due to depredation would be expected to decline as sablefish IFQ fishermen voluntarily switch from hook-and-line gear to longline pot gear. Because the amount of depredation is not known with certainty, the potential effects of reduced depredation from this proposed rule cannot be quantified. Section 3.1.1 of the Analysis notes that although hook-and-line and longline pot gear may catch slightly different sizes of sablefish, the best available information indicates that the use of pot longline gear would not have a significant impact on the sablefish resource.

During the development of this proposed rule, the Council and NMFS received public testimony from IFQ fishery participants who did not support the use of longline pot gear in the sablefish IFQ fishery. These fishermen indicated that use of longline pot gear could result in conflicts between hook-and-line and longline pot gear similar to those that occurred prior to implementation of the IFQ Program. These fishermen testified that longline pot gear is typically left unattended on the fishing grounds for several days before the pots are retrieved. The testimony expressed concerns that longline pot gear left on the sablefish fishing grounds could preempt the use of these fishing grounds by fishermen using hook-and-line gear as had occurred prior to implementation of the IFQ Program.

In recommending Amendment 101 and this proposed rule, the Council and NMFS recognize that longline pot gear had previously been authorized in the GOA sablefish fishery, but its use was prohibited prior to implementation of the IFQ Program. The Council and NMFS also recognize that the prohibition on pot gear was based on fishery data and scientific information on depredation that is not reflective of the present fishery. The Council determined, and NMFS agrees, that authorizing longline pot gear in the GOA sablefish IFQ fishery under Amendment 101 and this proposed rule is appropriate because the IFQ Program provides fishermen with substantially more flexibility on when and where to harvest sablefish. The IFQ Program makes it much less likely that hook-and-line and longline pot gear conflicts would occur or that fishing grounds would be preempted for extended periods in the same manner previously analyzed by the Council and NMFS.

The Council and NMFS analyzed the extent to which this proposed rule, which would allow hook-and-line gear and pot gear to be used in the same areas, could result in gear conflicts and grounds preemption. Section 4.9.2 of the Analysis explains gear conflict and grounds preemption impose costs on fishermen that are unable to, or choose not to, deploy hook-and-line gear in an area because longline pot gear is used in that area. In the case of the sablefish IFQ fishery, the Council and NMFS received public testimony that vessel operators using hook-and-line gear could incur increased operating costs if their vessels would have to travel farther or to less productive fishing grounds to find an area unoccupied by longline pot gear. The testimony suggested that these costs could potentially be greater for participants in the SEO and WY sablefish areas. In these sablefish areas, fishing grounds are constrained to a narrow area on the edge of the continental shelf and fishing gear is concentrated into a relatively smaller area compared to the CGOA and WGOA sablefish areas. Section 4.9.4 of the Analysis notes that fishery data is not available at a sufficiently fine spatial scale to identify particular areas where competition for fishing grounds may occur in the SEO and WY sablefish areas.

The Analysis explains that it is not possible to determine with certainty the extent to which gear conflicts and grounds preemption might occur under this proposed rule because it is unknown how many vessel operators will use longline pot gear in the GOA sablefish IFQ fishery. After reviewing the Analysis and receiving public testimony, the Council and NMFS determined the likelihood of gear conflicts and grounds preemption was low. However, the likelihood of gear conflicts and grounds preemption is not possible to determine with certainty. The Council received testimony from several stakeholders noting this uncertainty and expressing concern that this proposed rule would negatively impact fishermen who continue to use hook-and-line gear. These stakeholders requested specific measures to further minimize the likelihood of gear conflicts and grounds preemption. Therefore, this proposed rule addresses these stakeholder concerns by recommending a number of management measures that are intended to minimize the potential for gear conflicts and grounds preemption. These measures include (1) authorizing only the use of longline pot gear, (2) limiting the number of pots that may be deployed by a vessel in each sablefish area, (3) requiring all pots to be identified with a tag assigned to the vessel, (4) requiring a vessel operator to redeploy longline pot gear from the fishing grounds within a specified time period, (5) requiring a vessel operator to remove longline pot gear when leaving certain fishing grounds to make a landing, (6) requiring a vessel operator to mark longline pot gear to make it more visible on the fishing grounds, and (7) recordkeeping and reporting requirements to monitor and enforce provisions of this rule. The Council determined, and NMFS agrees, that these management measures would likely further reduce the likelihood of gear conflicts and grounds preemption in the GOA sablefish IFQ fishery under this proposed rule.

Longline Pot Gear

Amendment 101 and this proposed rule would authorize the use of longline pot gear in the GOA sablefish IFQ fishery. Vessel operators would be prohibited from using pot-and-line gear (i.e., single pot gear) to harvest sablefish in the GOA. Section 2.4 of the Analysis notes that the Council considered authorizing longline pot gear and pot-and-line gear in the GOA sablefish IFQ fishery for this action. The Council determined, and NMFS agrees, that pot-and-line gear may have a greater potential for conflict with hook-and-line gear because it has a larger number of anchor lines and buoys than longline pot gear. In addition, single pots that are deployed in a pot-and-line format are larger and heavier than pots deployed in a longline pot format because a single pot is more likely to drift than pots deployed in a longline format. Single pots deployed in a pot-and-line format could result in greater gear entanglement and conflicts because they are likely to drift into other areas from the deployed location than pots deployed in a longline pot format. Section 2.4 of the Analysis also states that compared to pot-and-line gear, longline pot gear would be expected to enhance crew safety and may make it feasible for smaller vessels that could not use pot-and-line gear in the sablefish IFQ fishery to use longline pot gear.

Pot Limits

This proposed rule would implement different pot limits for different GOA sablefish areas. Section 4.9.3 of the Analysis notes that a pot limit would control vessel fishing effort and limit the total amount of fishing grounds that any single vessel could use at a given time. A vessel operator would be limited to deploying a specific amount of pots in each area in which they hold IFQ: 120 pots in the SEO and WY sablefish areas and 300 pots in the CGOA and WGOA sablefish areas.

The Council considered area-specific pot limits to account for the physical nature of the sablefish fishing grounds and the composition of the IFQ sablefish fleet in each sablefish area. The Council also considered testimony on the number of pots that vessels in the GOA could feasibly deploy in the sablefish IFQ fishery. The Council determined, and NMFS agrees, that smaller pot limits are appropriate in the SEO and WY fisheries because these sablefish areas have more spatially concentrated fishing grounds than the CGOA and WGOA sablefish areas.

Pot Tags

This proposed rule would implement a requirement that all pots deployed in GOA sablefish areas have a pot tag that is (1) issued by NMFS and (2) assigned by NMFS to a vessel that is licensed by the State of Alaska. This proposed rule would require a vessel owner to request and receive pot tags by submitting an application to NMFS. NMFS would require a vessel owner to specify on the application for pot tags the vessel name and Alaska Department of Fish and Game (ADF&G) vessel registration number. The State of Alaska requires the owner of a fishing vessel used in waters of the state to register with the State of Alaska and receive an ADF&G vessel registration number (AS 16.05.475). If the ADF&G vessel registration number is current at the time the application for pot tags is submitted, NMFS would consider the vessel eligible to participate in the GOA sablefish IFQ fishery using longline pot gear and assign pot tags to that vessel. NMFS would assign the number of tags requested for each GOA sablefish area, not to exceed the pot limits for each sablefish area, to the vessel and issue the tags to the vessel owner. Vessel owners should allow up to 10 days from receipt of a pot tag application by NMFS for NMFS to issue pot tags. Each pot tag would have a unique number and be a color specific to the GOA sablefish area in which it may be deployed. This proposed rule would require the operator of the vessel to attach a pot tag that is assigned to the vessel to each pot before deploying the gear. Because the proposed pot tag requirements are intended to facilitate monitoring of the proposed pot limits on the fishing grounds, this proposed rule would make the vessel operator responsible for complying with the pot tag requirements and the pot limits in each GOA sablefish area.

Section 4.9.3.2 of the Analysis states that in instances where the vessel is leased by the owner, each vessel operator would need to obtain the pot tags from the vessel owner to ensure the proper use of the pot tags in the GOA sablefish IFQ fishery. In cases where multiple sablefish IFQ permit holders fish from the same vessel, the vessel operator would be responsible for ensuring that no more pots are deployed from a vessel than the pot limit for a specific sablefish area.

The Council and NMFS recognized that pot tags may be lost on the fishing grounds if a tag becomes unattached from the pot or if a pot becomes unattached from the longline and cannot be retrieved. Under this proposed rule, the vessel owner could request replacement pot tags from NMFS if pot tags are lost. The vessel owner would be required to provide NMFS with the pot tag numbers that were lost and provide a description of the circumstances under which the pot tags were lost. NMFS would issue the appropriate number of replacement tags, up to the pot limit specified for the sablefish area. Vessel owners should allow up to 10 days from receipt of a pot tag application by NMFS for NMFS to issue replacement pot tags.

The Council and NMFS anticipated that some vessel operators may want to share longline pot gear during the fishing season to help reduce operating costs. To minimize the potential for grounds preemption by multiple vessels using the same longline pot gear, this proposed rule would allow multiple vessels to use the same longline pot gear during one fishing season but would prohibit use of the same longline pot gear simultaneously. In order for more than one vessel to use the same longline pot gear, this proposed rule would require a vessel operator to remove longline pot gear from the fishing grounds, return the gear to port and remove the pot tags assigned to the vessel before pot tags assigned to another vessel could be attached to the pots and used on another vessel in the GOA sablefish IFQ fishery.

Gear Redeployment and Removal

This proposed rule would require vessels using longline pot gear in the GOA sablefish IFQ fishery to redeploy or remove their gear within a specified time period after deployment or when leaving the fishing grounds to make a landing. The Council recommended area-specific requirements because vessel operations and fishing grounds vary by management areas. Section 4.9.4 and Section 4.10 of the Analysis note that this provision is intended to minimize the potential for vessels using longline pot gear to preempt fishing grounds for extended periods. These provisions were supported by sablefish IFQ holders who intend to use longline pot gear and sablefish IFQ holders who intend to continue to use hook-and-line gear under this proposed rule.

The Council based its recommendations on information on the use of pot gear in the BSAI sablefish IFQ fishery and on testimony from sablefish IFQ holders. Section 4.9.2 of the Analysis notes that pot gear typically remains deployed (“soaked”) on the fishing grounds for longer periods of time than hook-and-line gear. As described above in this preamble, pot gear is generally soaked for multiple days. Figure 8 in Section 3.1.1.2 of the Analysis shows that sablefish pot gear deployed by catcher vessels and catcher/processors in the BSAI was typically “soaked” for two to four days from 1995 through 2005, and 90 percent of the observed pot sets were soaked for seven or fewer days. Section 3.1.2.2 of the Analysis notes that hook-and-line fishermen tend to soak their gear for less than 24 hours before hauling, and are less apt to leave their gear on the grounds when returning to port.

In addition to the information on pot soak times in the BSAI sablefish fishery presented in Section 4.9.2 of the Analysis, the Council considered testimony from vessel operators. This testimony suggested it was unlikely that vessels using pot gear would preempt fishing grounds in the GOA by leaving pot gear deployed for extended periods of time because (1) longline pot gear likely would be deployed in the GOA sablefish IFQ fishery from two to four days, similar to operations in the BSAI fisheries, (2) gear conflicts and grounds preemption has not occurred in the BSAI sablefish IFQ fishery, and (3) vessel operators have an incentive to optimize their pot gear fishing effort to maximize their sablefish IFQ harvest in the minimum amount of time.

Nevertheless, these vessel operators acknowledged to the Council that the likelihood of gear conflicts and grounds preemption cannot be determined with certainty. These vessel operators also noted that many GOA sablefish IFQ holders intending to continue to use hook-and-line gear were concerned about the potential for gear conflicts and grounds preemption under this proposed rule. These operators noted that these concerns likely were greater for the GOA sablefish IFQ fishery than the BSAI sablefish IFQ fishery because some GOA sablefish areas have more constrained fishing grounds due to a smaller overall area and a larger number of participating vessels than in the BSAI. To address this concern, several sablefish IFQ holders recommended that the Council establish area-specific requirements for catcher vessels and catcher/processors to redeploy or remove gear from the grounds in order to further reduce the likelihood that longline pot gear would be deployed on the GOA fishing grounds for extended periods of time and result in gear conflicts and grounds preemption.

The Council determined that establishing these gear redeployment or removal limits would provide an additional incentive for operators using longline pot gear to closely monitor the amount of time their gear is left on the grounds and further minimize potential for gear conflicts or grounds preemption. The Council recommended these provisions to balance its objective to provide economic benefits to fishermen using longline pot gear with its objective to minimize potential negative impacts on fishermen continuing to use hook-and-line gear.

In recommending Amendment 101 and this proposed rule, the Council indicated its intent to monitor interactions between longline pot and hook-and-line gear in the GOA sablefish IFQ fishery. The Council recommended that if Amendment 101 and this proposed rule are approved, NMFS would annually report to the Council the amount of longline pot gear effort in the GOA sablefish IFQ fishery in addition to any reported gear conflicts or instances of grounds preemption. The Council also indicated its intent to conduct a review of Amendment 101 and this action three years following implementation of the final rule, if approved. The Council specified its intent to consider the impact of Amendment 101 and this proposed rule on GOA sablefish IFQ holders that continue to use hook-and-line gear in determining whether changes to regulatory provisions are needed in the future.

The Council determined, and NMFS agrees, that the following provisions of this proposed rule would minimize the potential for gear conflicts and grounds preemption. For each area of the GOA, this proposed rule would specify a maximum time limit for which longline pot gear could be left unattended on the fishing grounds. The Council determined, and NMFS agrees, that requiring vessel operators to tend the gear within a specified time period reduces the likelihood that longline pot gear will be left on the grounds unattended for an extended period of time.

In the SEO sablefish area, a catcher vessel operator would be required to remove longline pot gear from the fishing grounds when the vessel leaves the fishing grounds to make a landing. This would prohibit the vessel operator from preempting fishing grounds by retrieving pots and redeploying the gear in the same fishing location while the vessel made a landing. This restriction responds to concerns expressed by fishermen holding sablefish IFQ in the SEO sablefish area. These fishermen testified that a substantial portion of sablefish IFQ fishermen in SEO likely would continue to use hook-and-line gear under this proposed rule because the vessels are too small to feasibly use longline pot gear.

Section 4.9.8.1 in the Analysis notes that vessels ranging from between 55 feet (16.7 m) and 95 feet (28.9 m) length overall (LOA) participate in sablefish pot fisheries in Canada. The Analysis shows that the majority of the vessels that participate in sablefish fisheries in the GOA are greater than 50 feet (15.2 m) LOA, indicating that these vessels may be able to feasibly use longline pot gear. The Analysis also shows that approximately 30 percent of sablefish IFQ fishermen in SEO use vessels 50 feet (15.2 m) or less LOA. This is a higher percentage of smaller vessels compared to the other GOA sablefish areas. Therefore, the Council determined, and NMFS agrees, that requiring a vessel in the SEO sablefish area to remove longline pot gear from the fishing grounds when the vessel leaves the fishing grounds to make a landing would minimize the potential for grounds preemption while providing fishermen using longline pot gear with an opportunity to efficiently harvest sablefish.

The Council did not recommend a specific redeployment or removal provision for catcher/processors in the SEO sablefish area because relatively few catcher/processors operate in the area and the Council did not receive testimony suggesting specific limitations for these vessels. However, NMFS has determined that this proposed rule should require operators of catcher/processors in SEO to haul and reset (redeploy) in the same location or remove longline pot gear from that location within a specified time period. This provision would be consistent with requirements for sablefish IFQ vessels in other GOA areas in order to minimize the potential for catcher/processors using longline pot gear in SEO to preempt fishing grounds for extended periods. The Council and NMFS determined that redeploying or removing longline pot gear from a specific location would meet the requirements to tend gear in this proposed rule (see Section 2.2 of the Analysis). This would provide sablefish IFQ permit holders with flexibility to harvest sablefish IFQ while still requiring vessel operators to tend gear within a maximum time period in order to minimize the potential for gear to be left unattended on the fishing grounds for an extended period of time. NMFS proposes to require a catcher/processor in the SEO sablefish area to redeploy or remove from the fishing grounds all longline pot gear that is assigned to the vessel and deployed to fish sablefish IFQ within five days after deploying the gear. This proposed regulation would mirror the effect of the provision applicable to vessels in the WY and CGOA sablefish areas.

The Council and NMFS determined that five days was an appropriate period of time because the Council heard testimony from operators intending to use longline pot gear that this would accommodate sablefish vessel fishing plans to soak pots for two to four days, while allowing additional time to redeploy or remove gear in the event of poor weather or operational delays. The Council and NMFS determined that this requirement to redeploy or remove gear at least every five days would minimize the likelihood that one vessel would preempt the same fishing grounds for an extended period of time.

In the WY and CGOA sablefish areas, a catcher vessel and a catcher/processor operator would be required to redeploy or remove longline pot gear from the fishing grounds within five days after deploying the gear. The Council and NMFS received testimony that this would be an appropriate time period because it is unlikely that a vessel operator would leave fishing gear unattended for longer than five days in the WY and CGOA sablefish areas. The Council and NMFS determined that five days was an appropriate period of time because the Council heard testimony from operators intending to use longline pot gear that this would accommodate sablefish vessel fishing plans to soak pots for two to four days while allowing additional time to redeploy or remove gear in the event of poor weather or operational delays.

The Council and NMFS considered testimony indicating that, although the fishing grounds in WY are spatially constrained, similar to SEO, the likelihood of grounds preemption in WY is lower because there are fewer IFQ permit holders in that area than in SEO. Therefore, the Council and NMFS determined that it would not be necessary to require a vessel operator to remove longline pot gear from WY area grounds when the vessel made a landing. The Council and NMFS received testimony that fishing grounds are not as limited in the WY and CGOA sablefish areas, and grounds preemption likely would not occur under this proposed rule.

In the WGOA sablefish area, a catcher vessel and a catcher/processor operator would be required to redeploy or remove longline pot gear from the fishing grounds within seven days after deploying the gear. The Council and NMFS received testimony that this would be an appropriate time period because while it was unlikely that a vessel operator would leave fishing gear unattended for longer than seven days in the WGOA, this proposed rule would provide a maximum time limit for which longline pot gear could be left unattended on the fishing grounds. The Council provided a longer time period in the WGOA for operators to redeploy or remove longline pot gear relative to the other sablefish areas because the WGOA is the largest GOA sablefish area and there are substantially fewer sablefish IFQ holders in the WGOA than in SEO and the CGOA. The Council and NMFS received testimony that fishing grounds are not constrained in the WGOA and grounds preemption likely would not occur under this proposed rule.

Gear Marking

This proposed rule would implement additional gear marking requirements for vessels using longline pot gear in the GOA. Current regulations at § 679.24(a) require all vessel operators using hook-and-line and pot gear to mark buoys carried on board or used by the vessel to be marked with the vessel's Federal fisheries permit number or ADF&G vessel registration number. This regulation also specifies that the markings must be a specified size, shall be visible above the water line, and shall be maintained so the markings are clearly visible.

Section 4.9.5 and Section 4.10 of the Analysis describe the impacts of the additional gear marking requirements that would be implemented by this proposed rule for a vessel operator using longline pot gear in the GOA sablefish IFQ fishery. In addition to the current requirements at § 679.24(a), each vessel operator would be required to attach a cluster of four or more marker buoys, a flag mounted on a pole, and a radar reflector to each end of a longline pot set. The Council and NMFS received testimony that these marking requirements would enhance the visibility of the ends of a longline pot gear set to other vessels that are on the fishing grounds and would not impose a substantial cost on vessel operators using longline pot gear. The testimony indicated that these marking tools are commonly used by vessel operators that deploy pot gear in fisheries in Alaska.

This proposed rule would require a vessel operator to use four or more buoys to mark each end of a longline pot gear set. The Council and NMFS anticipate that multiple buoys would keep the gear marking above the water line in stronger currents and facilitate visibility from greater distances. Current regulations require any vessel fishing in the sablefish or halibut IFQ fisheries to mark all buoys carried on board or used with the vessel's Federal Fisheries Permit (FFP) number or Alaska Department of Fish & Game (ADF&G) vessel registration number. This provides enforcement agents and other fishermen on the grounds with information that identifies the vessel or the IFQ permit holder associated with that vessel. This proposed rule would require a vessel operator to add the initials “LP” for “Longline Pot” to one hard buoy in the buoy cluster in addition to the FFP number or ADF&G vessel registration number. This would distinguish buoys for hook-and-line gear from buoys for longline pot gear.

This proposed rule would require a vessel operator to use a flag mounted on a pole to mark each end of a longline pot gear set. Section 4.9.5 of the Analysis explains that flags are commonly used by vessel operators to mark pot gear in fisheries in Alaska.

This proposed rule would require a vessel operator to use a radar reflector to mark each end of a longline pot gear set. Fishing vessels use radar reflectors to help make the vessel or other objects identifiable by other vessels that use radar to scan for vessels and other obstructions. A radar reflector reflects a radar signal directly back to the radar antenna so that the object with the radar reflector is identifiable on the radar of the vessel deploying the radar. The Council and NMFS received public testimony that radar reflectors are commonly used by vessel operators to mark pot gear in fisheries in Alaska. This public testimony indicated that the requirement to mark longline pot gear with a radar reflector under this proposed rule would not impose a substantial cost on vessel operators.

Monitoring and Enforcement

This proposed rule would implement three additional recordkeeping and reporting requirements to monitor and enforce provisions that are intended to minimize gear conflicts and grounds preemption. First, NMFS would require all vessel operators using longline pot gear in the GOA sablefish IFQ fishery to report specific information in logbooks about fishing gear used and catch for all sablefish IFQ fishing trips. Most vessel operators in the GOA sablefish IFQ fishery are currently required to complete logbooks for sablefish IFQ fishing trips. Second, NMFS would require all vessel operators using longline pot gear in the GOA sablefish IFQ fishery to have an operating Vessel Monitoring System (VMS) while fishing for sablefish IFQ. Third, NMFS would add additional required fields to the Prior Notice of Landing (PNOL) for vessel operators using longline pot gear in the GOA sablefish IFQ fishery.

Section 4.9 of the Analysis notes that this proposed rule would require all vessel operators using longline pot gear in the GOA sablefish IFQ fishery to complete NMFS logbooks. NMFS uses logbooks to collect detailed information from vessel operators participating in the IFQ fisheries. Under current regulations, the operator of a catcher vessel 60 feet or greater (18.3 m) LOA using hook-and-line gear in the sablefish or halibut IFQ fisheries is required to maintain a Daily Fishing Logbook (DFL). The operator of a catcher/processor using hook-and-line gear in the sablefish or halibut IFQ fisheries must use a combination of a Daily Cumulative Production Logbook (DCPL) and the NMFS electronic reporting system for landings (eLandings). For each day during a fishing trip, vessel operators are required to record in a DFL or DCPL information on deployed, retrieved, and lost gear and catch information per unit of gear deployed.

This proposed rule would add a requirement for all operators of a vessel using longline pot gear in the GOA sablefish IFQ fishery to report in a DFL (for catcher vessels) or DCPL (for catcher/processors) the number of pots and location of longline pot sets deployed on a fishing trip. Under current regulations, the operator of a vessel less than 60 feet (18.3 m) LOA is exempt from logbook reporting requirements. This proposed rule would remove this exemption for the operator of a vessel using longline pot gear in the GOA sablefish IFQ fishery. While this would be a new regulatory requirement for these vessels, Section 4.9.3.2 of the Analysis explains that many operators of vessels less than 60 feet (18.3 m) in the sablefish IFQ fishery voluntarily complete and submit logbooks. Therefore, the Council and NMFS anticipate this additional reporting requirement would not negatively impact operators of vessels less than 60 feet (18.3 m) that choose to use longline pot gear.

Current regulations allow the operator of a vessel required to complete a DFL or a DCPL to use a NMFS-approved electronic logbook (ELB) instead of a DFL or DCPL. While NMFS does not currently have an approved ELB for vessels using longline pot gear in the GOA, NMFS anticipates that an ELB would be available for use by these vessel operators in the future. Under this proposed rule, vessel operators using longline pot gear in the GOA sablefish IFQ fishery would be required to complete a DFL or a DCPL and eLandings to record and report sablefish information until a NMFS-approved ELB is available.

Section 4.10 of the Analysis notes that this proposed rule would require all vessel operators using longline pot gear in the GOA sablefish IFQ fishery to use VMS to track vessel activity in the GOA sablefish areas. VMS is used to monitor the location and movement of commercial fishing vessels in Federal fisheries in Alaska. NMFS would use the VMS to aid in determining compliance with requirements to redeploy or remove fishing gear from the grounds within a specified time period under this proposed rule.

Section 5.7 of the Analysis states that this proposed rule would add a requirement for vessel operators using longline pot gear in the GOA sablefish IFQ fishery to report the number of pots deployed, the number of pots lost, and the number of pots left deployed on the fishing grounds on the PNOL. NMFS requires vessel operators in the IFQ fisheries to submit a PNOL at least three hours before a landing occurs to alert enforcement personnel of the upcoming landing. The PNOL would be a declaration from the vessel operator that enforcement agents could compare with the gear on board while the vessel is making a landing.

Sections 4.9.3.2, 4.9.4.1, 4.9.5.1, and 4.9.6.1 of the Analysis describe enforcement considerations for the provisions of this proposed rule that are intended to minimize gear conflicts and grounds preemption. The Council and NMFS considered the methods that would be used to enforce the proposed restrictions on use of longline pot gear in the GOA sablefish IFQ fishery. The Council and NMFS determined that the requirements in this proposed rule would provide sufficient monitoring and enforcement information to meet the Council's objectives for Amendment 101 and this proposed rule.

Impacts on Whale Interactions in the Sablefish IFQ Fishery

Depredation by killer whales and sperm whales is common in the sablefish IFQ fisheries in the GOA and BSAI. Section 3.4.1 of the Analysis provides available information on the interactions of the GOA sablefish IFQ fishery with killer whales and sperm whales. The Analysis examined data from the commercial fisheries and sablefish survey data and concluded that the use of longline pot gear would support the objective of this proposed rule to reduce sablefish IFQ fishery interactions with whales in the GOA. Use of longline pot gear is expected to reduce fishing gear interactions with whales and have a positive effect on killer whales and sperm whales compared to the status quo.

Section 3.4.2 of the Analysis notes that this proposed rule could reduce the risk of whale entanglements in fishing gear. Although the likelihood of whale entanglements in hook-and-line gear is very low in Alaska fisheries, the Analysis states that neither killer whales nor sperm whales are known to depredate on pot fishing gear. Therefore, this proposed rule could reduce the risk of whale entanglements in fishing gear.

Impacts on Seabird Interactions in the GOA Sablefish IFQ Fishery

Many seabird species are attracted to fishing vessels to forage on bait, offal, discards, and other prey made available by fishing operations. These interactions can result in direct mortality for seabirds if they become entangled in fishing gear or strike the vessel or fishing gear while flying. In addition, seabirds are attracted to sinking baited hooks and can be hooked and drowned. Hook-and-line gear has the greatest impact on seabirds relative to other fishing gear. Since 1998, seabird avoidance measures have been required on vessels greater than or equal to 27 ft (7.9 m) LOA using hook-and-line gear in the groundfish and halibut fisheries in the GOA and BSAI (March 6, 1998, 63 FR 11161). Additional seabird avoidance measures have been adopted for the hook-and-line fishery since 1998 (72 FR 71601, December 18, 2007). These measures were intended to reduce seabird incidental catch and mortality and mitigate interactions with short-tailed albatross.

Section 3.5.1 of the Analysis examines the effect of hook-and-line gear on seabirds. Data from 1993 through 2012 indicate the annual incidental catch of seabirds in all hook-and-line fisheries constitutes about 91 percent of fisheries-related seabird mortality in Alaska. The GOA typically accounts for 10 percent to 20 percent of overall incidental seabird catch.

Section 3.5.1.2 of the Analysis compared the number of seabird mortalities by hook-and-line and pot gear in the GOA Pacific cod fishery and the BSAI sablefish IFQ fishery and determined that a higher level of seabird mortality occurred with hook-and-line gear. The Analysis compared seabird mortality by hook-and-line and pot gear in the GOA Pacific cod fishery because pot gear is not authorized for the GOA sablefish IFQ fishery. The estimated seabird mortality in the GOA Pacific cod fishery from vessels using hook-and-line gear was 1,802 seabirds and the estimated mortality from vessels using pot gear was 458 seabirds. This comprises a very small portion of total estimated seabird mortality from fisheries in Alaska. This proposed rule would likely reduce the already small incidental catch of seabirds in the sablefish IFQ fishery because it would provide vessel operators with the opportunity to use longline pot gear, which has a lower rate of incidental catch of seabirds than hook-and-line gear.

Impacts on the Halibut IFQ Fishery

The Council and NMFS also considered the impacts of this proposed rule on the halibut IFQ fishery. Section 3.2.1 of the Analysis notes that the overall impact of this proposed rule on the halibut IFQ fishery is likely to be small. This proposed rule would revise current regulations to authorize retention of halibut IFQ caught when using longline pot gear in the GOA sablefish IFQ fishery, provided a person on the vessel holds sufficient IFQ pounds to cover the retained halibut.

In developing this proposed rule, the Council recognized that the IPHC authorizes fishing gear for halibut in the GOA through its annual management measures. The IPHC meets annually to approve the regulations that apply to persons and vessels fishing for and retaining halibut IFQ. At its January 2016 Annual Meeting, the IPHC approved longline pot gear, as defined by the Council, as legal gear to retain halibut in Alaska if NMFS implements regulations that authorize longline pot gear in the sablefish IFQ fishery (81 FR 14000, March 16, 2016).

Section 19(1) of the 2016 annual management measures allows a person to retain and possess halibut IFQ taken with hook-and-line or longline pot gear in the sablefish IFQ fishery provided retention and possession is authorized by NMFS regulations published at 50 CFR part 679. Current NMFS regulations require vessel operators using hook-and-line gear and holding sufficient halibut IFQ to retain legal size halibut (32 inches or greater) caught incidentally in the GOA sablefish IFQ fishery. If the Secretary approves a final rule to implement Amendment 101, NMFS would implement a requirement in regulations for vessel operators using longline pot gear and holding sufficient halibut IFQ to retain legal size halibut in the GOA sablefish IFQ fishery as recommended by the Council and the IPHC. The Council developed this regulation pursuant to section 773c(c) of the Halibut Act. The Secretary is publishing this regulation for public comment in this notice of proposed rulemaking.

Requiring the retention of incidentally caught halibut IFQ is intended to avoid the discard and associated discard mortality of halibut in the GOA sablefish IFQ fishery. The sablefish and halibut hook-and-line gear fisheries are prosecuted simultaneously. Vessels that fish sablefish IFQ typically also fish halibut IFQ. Section 4.5.6 of the Analysis notes that the majority of sablefish IFQ permit holders also hold a halibut IFQ permit. Section 4.9.6 of the Analysis concludes that replacing some amount of hook-and-line effort with longline pot gear effort could benefit permit holders in the halibut IFQ fishery because many of the sablefish IFQ fishery participants are also halibut IFQ fishery participants. This proposed rule would create efficiencies in the harvest of halibut and sablefish for these participants.

This proposed rule would require vessel operators that catch halibut in longline pot gear to comply with current retention requirements under the IFQ Program and the provisions recommended by the Council. Currently, halibut caught with hook-and-line gear must be retained if the halibut are of legal size and a person on the vessel holds a halibut IFQ permit with sufficient halibut IFQ pounds to cover the retained halibut. The Council recommended, and NMFS agrees, that a sablefish IFQ permit holder on board a vessel that catches halibut with longline pot gear in the GOA would be required to retain the halibut provided they hold a halibut IFQ permit with sufficient halibut IFQ pounds to cover the retained halibut. Regulations at § 679.7(f)(4) prohibit an IFQ holder from retaining legal size halibut if no person on board the vessel holds sufficient IFQ pounds to cover the retained halibut. In these instances, fishermen are required to discard the halibut with a minimum of injury consistent with regulations at § 679.7(a)(13) and Section 14 of the IPHC annual management measures (81 FR 14000, March 16, 2016).

This Proposed Rule

This proposed rule would revise regulations at 50 CFR part 300 and 50 CFR part 679 to: (1) Authorize longline pot gear in the GOA sablefish IFQ fishery, (2) minimize the potential for gear conflicts and fishing grounds preemption, and (3) require retention of halibut IFQ caught in longline pot gear used in the GOA sablefish IFQ fishery. NMFS also proposes additional regulatory revisions to facilitate the administration, monitoring, and enforcement of this proposed rule. This section describes the proposed changes to current regulations.

Authorize Longline Pot Gear

This proposed rule would revise §§ 300.61, 679.2, and 679.24 to authorize longline pot gear for use in the GOA sablefish IFQ fishery.

This proposed rule would revise regulations at § 300.61 that supplement the annual management measures adopted by the IPHC. These proposed revisions are necessary to implement the Council's recommendation to require halibut IFQ permit holders to retain legal sized halibut IFQ caught incidentally in longline pots deployed in the GOA sablefish IFQ fishery, provided the halibut IFQ holders have sufficient remaining IFQ pounds to cover the retained halibut. To implement this recommendation, this proposed rule would revise the definition of “Fishing” at § 300.61 to specify that the use of longline pot gear in any halibut area in the GOA to harvest halibut IFQ would be subject to halibut regulations at part 300. This proposed rule would revise the definition of “IFQ halibut” at § 300.61 to specify that halibut IFQ may be harvested with longline pot gear while commercial fishing in any halibut area in the GOA.

This proposed rule would revise the definition of “Fixed gear” under the definition of “Authorized fishing gear” at § 679.2(4)(i) to include longline pot gear as an authorized gear in the GOA sablefish IFQ fishery. Fixed gear is a general term that describes the multiple gear types allowed to fish sablefish IFQ and halibut IFQ under the IFQ Program and is referred to throughout 50 CFR part 679.

This proposed rule would add § 679.2(4)(iv) to the definition of “Fixed gear” under the definition of “Authorized fishing gear” to include longline pot gear as an authorized gear for halibut IFQ harvested in halibut areas in the GOA.

This proposed rule would revise the definition of “IFQ halibut” in § 679.2 to specify that halibut IFQ may be harvested with longline pot gear while commercial fishing in any halibut area in the GOA.

This proposed rule would revise § 679.24(b) and (c) to authorize the use of longline pot gear to harvest sablefish in GOA sablefish areas.

This proposed rule would revise § 679.42(b)(1) to specify that authorized fishing gear for sablefish and halibut IFQ is defined in § 679.2. NMFS proposes to add § 679.42(b)(1)(i) to further clarify that trawl gear is not authorized for use in the sablefish and halibut IFQ fisheries in the GOA and the BSAI. NMFS proposes to add § 679.42(b)(1)(ii) to clarify that pot-and-line gear is not authorized for use in the GOA sablefish IFQ fishery.

Minimize Potential Gear Conflicts and Grounds Preemption

This proposed rule would add provisions at § 679.42(l) to minimize the potential for gear conflicts and grounds preemption. This proposed rule would add § 679.42(l)(1) and (2) to establish the general requirements for using longline pot gear in the GOA sablefish IFQ fishery.

This proposed rule would add § 679.42(l)(3) to specify the requirements for vessel operators to request pot tags. This proposed rule would describe the process NMFS would use to issue pot tags and to annually register a vessel and assign pot tags for the GOA sablefish IFQ fishery. Section 679.42(l)(3)(i) would require a vessel operator to request pot tags from NMFS by submitting a complete IFQ Sablefish Longline Pot Gear: Vessel Registration and Request for Pot Gear Tags form that would be available on the NMFS Alaska Region Web site. NMFS would issue the number of requested tags up to the pot limit authorized in a sablefish area. The vessel owner requesting pot tags must specify the vessel to which NFMS would assign the pot tags. Under proposed § 679.42(l)(3)(ii), NMFS would assign pot tags to the registered vessel and issue them to the vessel owner upon receipt of a complete request for pot tags. Section 679.42(l)(3)(iii) would specify the process a vessel owner would use to submit a request for pot tag replacement to NMFS if one or more of the originally issued pot tags is lost or damaged such that the unique pot tag number is not legible.

Section 679.42(l)(3)(iv) would specify the process for annual vessel registration and assignment of pot tags. The vessel owner must annually register with NMFS the vessel that will be used to fish IFQ sablefish in the GOA. The vessel owner also must specify whether he or she is requesting assignment of pot tags previously issued to the vessel owner or is requesting new pot tags to be assigned to the vessel. Pot tags must be assigned to only one vessel each year. To assign pot tags, the vessel owner must submit a complete IFQ Sablefish Longline Pot Gear Vessel Registration and Request for Pot Gear Tags form and indicate the vessel to which NMFS will assign the pot tags for the current year. The vessel owner must indicate whether he or she is assigning pot tags that were previously assigned to the vessel or requesting new pot tags.

This proposed rule would add § 679.42(l)(4) to specify the requirements for a vessel operator to use pot tags in the GOA sablefish IFQ fishery. This proposed rule would require a valid pot tag that is assigned to the vessel be attached to each pot on board the vessel before the vessel departs port to fish in the GOA sablefish IFQ fishery.

This proposed rule would add § 679.42(l)(5) to specify restrictions on longline pot gear deployment and retrieval. Section 679.42(l)(5)(i)(A) would require a vessel operator to mark longline pot gear as specified in § 679.24(a). Section 679.24(a) would be revised to require a vessel operator to mark each end of a set of longline pot gear with a cluster of four or more marker buoys including one hard buoy marked with the capital letters “LP,” a flag mounted on a pole, and a radar reflector. These requirements would be in addition to current requirements at § 679.24(a) that require all hook-and-line, longline pot, and pot-and-line marker buoys to be marked with the vessel's FFP number or ADF&G vessel registration number.

This proposed rule would add § 679.42(l)(5)(i)(B) to require a vessel operator to deploy longline pot gear in the GOA sablefish IFQ fishery only during the sablefish fishing period specified in § 679.23(g)(1). NMFS annually establishes the sablefish fishing period to correspond with the halibut fishing period established by the IPHC.

Current regulations at § 679.23(g)(2) authorize an IFQ permit holder to retain sablefish outside of the established fishing period if the permit holder has unused IFQ for the specified sablefish area. This proposed rule would revise § 679.23(g)(2) to specify that IFQ permit holders using longline pot gear in the GOA would not be authorized to retain sablefish outside of the established fishing period even if the IFQ permit holder has unused IFQ.

This proposed rule would add § 679.42(l)(5)(ii) to establish pot limits in each GOA sablefish area. This proposed rule would add § 679.42(l)(5)(iii) to establish gear redeployment and removal requirements for longline pot gear in each GOA sablefish area. As described in the section titled Impacts of Amendment 101 and this Proposed Rule, this proposed rule would require a vessel operator using longline pot gear to redeploy the gear within a certain amount of time after being deployed, or remove the gear from the fishing grounds when making a sablefish landing.

This proposed rule would allow multiple vessels to use the same longline pot gear during one fishing season but would prevent use of the same longline pot gear simultaneously. To prevent use of the same longline pot gear simultaneously, this proposed rule would add § 679.42(l)(5)(iv) to require a vessel operator to (1) remove longline pot gear assigned to the vessel and deployed to fish sablefish IFQ from the fishing grounds, (2) return the gear to port, and (3) remove the pot tags that are assigned to that vessel from each pot before the gear could be used on another vessel. The operator of the second vessel would be required to attach pot tags assigned to his or her vessel to each pot before deploying the gear to fish for GOA sablefish IFQ. This proposed rule would require that only one set of the appropriate vessel-specific pot tags may be attached to the pots.

This proposed rule would add § 679.42(l)(6) to require a vessel operator using longline pot gear in the GOA sablefish IFQ fishery to retain legal sized halibut caught incidentally if any IFQ permit holder on board has sufficient halibut IFQ pounds for the retained halibut for that halibut area.

This proposed rule would add § 679.42(l)(7) to require a vessel operator using longline pot gear in the GOA sablefish IFQ fishery to comply with logbook reporting requirements at § 679.5(c) and VMS requirements at § 679.42(k).

Recordkeeping and Reporting

This proposed rule would revise § 679.5 to implement this proposed rule and clarify current logbook reporting requirements.

The following table describes the proposed revisions to § 679.5.

Paragraph in § 679.5 | Proposed revision
(a)(4)(i) | Require the operator of a vessel less than 60 feet (18.3 m) LOA using longline pot gear in the GOA sablefish IFQ fishery to complete a logbook.
(c)(1)(vi)(B) | Clarify table footnote.
(c)(2)(iii)(A) | Add missing word.
(c)(3)(i)(B) | Revise paragraphs (1) and (2) and add paragraphs (3) through (5) to specify logbook reporting requirements for vessels in the GOA and BSAI.
(c)(3)(ii)(A) and (B) | Clarify tables describing current logbook reporting requirements.
(c)(3)(iv)(A)(2) and (B)(2) | Require the operator of a vessel using longline pot gear to record specific information in a DFL or DCPL each day the vessel is active in the GOA sablefish IFQ fishery.
(c)(3)(v)(G) | • Require the operator of a vessel using longline pot gear in the GOA or the BSAI fishery to record the length of a longline pot set, the size of the pot, and spacing of pots.
| • Clarify logbook reporting requirements for gear information for all vessels using longline and pot gear.
(l)(1)(iii) | Add paragraphs (H) and (I) to require the operator of a vessel using longline pot gear in the GOA sablefish IFQ fishery to record in the PNOL the gear type used, number of pots set, number of pots lost, and number of pots left on the fishing grounds still fishing in addition to the other information required under current regulations.

Monitoring and Enforcement

This proposed rule would revise and add provisions to § 679.7 that would be necessary to monitor and enforce this proposed rule.

This proposed rule would revise the prohibition on deployment of gear at § 679.7(a)(6) to include longline pot gear. This revision is necessary to prohibit deployment of longline pot gear in the GOA outside of the sablefish fishing period. This proposed rule would revise § 679.7(a)(6)(i) to clarify that vessels in the halibut IFQ fishery are subject to gear deployment requirements specified by the IPHC in the annual management measures pursuant to § 300.62.

This proposed rule would revise § 679.7(a)(13). Under current regulations, vessel operators in groundfish fisheries are required to discard halibut if the halibut is less than legal size and/or there are no IFQ permit holders on board with sufficient IFQ pounds for the retained halibut for that halibut area. If halibut must be discarded, current regulations at § 679.7(a)(13) specify handling and release requirements for halibut caught with hook-and-line gear in the sablefish fishery. This proposed rule would revise § 679.7(a)(13) to specify the current regulations describing handling and release methods that would apply to vessels using longline pot gear in the GOA sablefish IFQ fishery.

This proposed rule would add § 679.7(f)(17) through (24) to enforce compliance with proposed regulations at §§ 679.23, 679.24, and 679.42 to minimize gear conflicts and grounds preemption.

This proposed rule would add § 679.7(f)(25) to prohibit a vessel operator in the GOA from using longline pot gear to harvest sablefish IFQ or halibut IFQ in the GOA sablefish areas without having an operating VMS on board the vessel. This proposed rule would revise § 679.42(k)(1) and (2) to require a vessel operator using longline pot gear to possess a transmitting VMS transmitter on board the vessel while fishing for sablefish IFQ in the GOA. NMFS does not propose to change the VMS reporting requirements for vessels fishing for sablefish IFQ in the BSAI. This proposed rule would revise § 679.42(k)(2)(ii) to require a vessel operator fishing for sablefish IFQ in the GOA to comply with VMS requirements at § 679.28(f)(3) through (5), which explain the vessel owner's responsibilities to ensure a VMS is operating and transmitting. This proposed rule would revise § 679.42(k)(2)(ii) to require a vessel operator using longline pot gear to fish sablefish IFQ in the GOA to contact NMFS to confirm that VMS transmissions are being received from the vessel. The vessel operator would be required to receive a VMS confirmation number from NMFS before fishing in the sablefish IFQ fishery.

Other Proposed Revisions

This proposed rule would revise § 679.20(a)(4) to replace the reference to the sablefish TAC allocation to hook-and-line gear with a reference to fixed gear, as defined at § 679.2, which would include hook-and-line and longline pot gear. This proposed rule would not change the percent of the TAC allocated to the sablefish IFQ fishery in the GOA. NMFS would continue to allocate 95 percent of the sablefish TAC in the EGOA sablefish area to vessels using fixed gear and allocate 80 percent of the sablefish TACs in each of the CGOA and WGOA sablefish areas to vessels using fixed gear.

This proposed rule would revise § 679.42(b)(2) to specify that an operator of a vessel using hook-and-line gear to harvest sablefish IFQ, halibut IFQ, or halibut Community Development Quota (CDQ) must comply with seabird avoidance measures set forth in § 679.24(e). Vessel operators using longline pot gear in the GOA sablefish IFQ fishery would not be required to comply with seabird avoidance measures under this proposed rule.

This proposed rule would revise § 679.51(a), which contains requirements for vessels in the partial observer coverage category, to remove specific reference to hook-and-line gear for vessels fishing for halibut. This revision is needed because this proposed rule would authorize the retention of halibut IFQ by vessels using longline pot gear in the GOA. It is not necessary to specify authorized gear for halibut IFQ in § 679.51(a) because § 679.50(a)(3) currently states that, for purposes of subpart E, when the term halibut is used it refers to both halibut IFQ and halibut CDQ, and the authorized gear for halibut is specified in § 679.2.

Table 15 to 50 CFR Part 679, Gear Codes, Descriptions, and Use

This proposed rule would revise Table 15 to part 679 to identify longline pot gear as authorized gear in the GOA sablefish IFQ fishery. NMFS would revise the table to specify that authorized gear for sablefish IFQ harvested from any GOA reporting area would include longline pot gear in addition to all longline gear (i.e., hook-and-line, jig, troll, and handline). NMFS would revise the table to specify that authorized gear for halibut harvest in the GOA would be fishing gear comprised of lines with hooks attached and longline pot gear. No change would be made in the table to authorized gear for sablefish or halibut IFQ in the BSAI.

Classification

Pursuant to section 304(b)(1)(A) and 305(d) of the Magnuson-Stevens Act, the NMFS Assistant Administrator has determined that this proposed rule is consistent with the GOA FMP, other provisions of the Magnuson-Stevens Act, the Halibut Act, and other applicable law, subject to further consideration of comments received during the public comment period.

This proposed rule has been determined to be not significant for the purposes of Executive Order 12866.

Regulatory Impact Review (RIR)

An RIR was prepared to assess all costs and benefits of available regulatory alternatives. The RIR considers all quantitative and qualitative measures. A copy of this analysis is available from NMFS (see ADDRESSES). The Council recommended and NMFS proposes Amendment 101 and these regulations based on those measures that maximized net benefits to the Nation. Specific aspects of the economic analysis are discussed below in the Initial Regulatory Flexibility Analysis section.

Initial Regulatory Flexibility Analysis

An Initial Regulatory Flexibility Analysis (IRFA) was prepared for this action, as required by Section 603 of the Regulatory Flexibility Act (RFA). The IRFA describes the economic impact this proposed rule, if adopted, would have on small entities. The IRFA describes the action; the reasons why this action is proposed; the objectives and legal basis for this proposed rule; the number and description of directly regulated small entities to which this proposed rule would apply; the recordkeeping, reporting, and other compliance requirements of this proposed rule; and the relevant Federal rules that may duplicate, overlap, or conflict with this proposed rule. The IRFA also describes significant alternatives to this proposed rule that would accomplish the stated objectives of the Magnuson-Stevens Act, and any other applicable statutes, and that would minimize any significant economic impact of this proposed rule on small entities. The description of the proposed action, its purpose, and the legal basis are explained in the preamble and are not repeated here. A summary of the IRFA follows. A copy of the IRFA is available from NMFS (see ADDRESSES).

For RFA purposes only, NMFS has established a small business size standard for businesses, including their affiliates, whose primary industry is commercial fishing (see 50 CFR 200.2). A business primarily engaged in commercial fishing (NAICS code 11411) is classified as a small business if it is independently owned and operated, is not dominant in its field of operation (including its affiliates), and has combined annual receipts not in excess of $11 million for all its affiliated operations worldwide.

Number and Description of Small Entities Regulated by This Proposed Rule

NMFS estimates that there are a total of 310 small catcher vessels and 1 small catcher/processor that participate in the GOA sablefish IFQ fishery using hook-and-line gear. These entities would be directly regulated by this proposed rule because they would be subject to the proposed requirements for using longline pot gear if they choose to use pot longline gear in the GOA sablefish IFQ fishery. Thus, NMFS estimates that 311 small entities would be directly regulated by this proposed rule.

Description of Significant Alternatives That Minimize Adverse Impacts on Small Entities

Several aspects of this rule directly regulate small entities. Small entities would be required to comply with the requirements for using longline pot gear in the GOA sablefish IFQ fishery, which include using only longline pot gear, pot limits, and gear retrieval and gear marking requirements. Authorizing longline pot gear in this proposed rule would provide an opportunity for small entities to choose whether to use longline pot gear to increase harvesting efficiencies and reduce operating costs in the sablefish IFQ fishery.

Based on public testimony to the Council and NMFS, and Section 4.9 of the Analysis, the proposed requirements for using pot gear are not expected to adversely impact small entities because each entity could choose to use longline pot gear or continue to use hook-and-line gear. In addition, the requirements for using longline pot gear would not be expected to unduly restrict sablefish harvesting operations. The Council and NMFS considered requirements that would impose larger costs on directly regulated small entities. These included requiring all vessels to remove gear from the fishing grounds each time the vessel made a landing and requiring more sophisticated and costly satellite-based gear marking systems. The Council and NMFS determined that these additional requirements were not necessary to meet the objectives of the action. This proposed rule would meet the objectives of the action while minimizing adverse impacts on fishery participants.

Small entities would be required to comply with additional recordkeeping and reporting requirements under this proposed rule if they choose to use longline pot gear in the GOA sablefish IFQ fishery. Section 4.9 of the Analysis notes that directly regulated small entities using longline pot gear would be required to request pot tags from NMFS, maintain and submit logbooks to NMFS, have an operating VMS on board the vessel, and report additional information in a PNOL. The Analysis notes that these additional recordkeeping and reporting requirements would not be expected to adversely impact directly regulated small entities because the costs of complying with these requirements is de minimus relative to total gross fishing revenue. In addition, NMFS anticipates that many of the vessels that choose to use longline pot gear under this proposed rule currently comply with the logbook and VMS reporting requirements when participating in the sablefish IFQ fishery and in other fisheries. The Council and NMFS considered alternatives to implement additional requirements to report locations of deployed and lost gear in an electronic database. The Council and NMFS determined that these additional requirements were not necessary to meet the objectives of the action. This proposed rule would meet the objectives of the action while minimizing the reporting burden for fishery participants.

Thus, there are no significant alternatives to this proposed rule that would accomplish the objectives to authorize longline pot gear in the GOA sablefish IFQ fishery and minimize adverse economic impacts on small entities.

Duplicate, Overlapping, or Conflicting Federal Rules

NMFS has not identified any duplication, overlap, or conflict between this proposed action and existing Federal rules.

Recordkeeping, Reporting, and Other Compliance Requirements

The recordkeeping, reporting, and other compliance requirements would be increased slightly under this proposed rule. This proposed rule contains new requirements for vessels participating in the proposed longline pot fishery for sablefish IFQ in the GOA.

Presently, NMFS requires catcher vessel operators, catcher/processor operators, buying station operators, mothership operators, shoreside processor managers, and stationary floating processor managers to record and report all FMP species in logbooks, forms, eLandings, and eLogbooks. This proposed rule would revise regulations to require all vessels using longline pot gear in the GOA sablefish IFQ fishery to report information on fishery participation in logbooks, forms, and eLandings.

NMFS currently requires vessels in the BSAI to have an operating VMS on board the vessel while participating in the sablefish IFQ fishery. This proposed rule would revise regulations to extend this requirement to vessels using longline pot gear in the GOA sablefish IFQ fishery.

NMFS currently requires all vessels in the sablefish and halibut IFQ fisheries to submit a PNOL to NMFS. This proposed rule would revise regulations to require vessels using longline pot gear in the GOA sablefish IFQ fishery to report the number of pots deployed, the number of pots lost, and the number of pots left deployed on the fishing grounds on the PNOL, in addition to other required information.

Collection-of-Information Requirements

This proposed rule contains collection-of-information requirements subject to review and approval by the Office of Management and Budget (OMB) under the Paperwork Reduction Act (PRA). These requirements have been submitted to OMB for approval. The collections are listed below by OMB control number.

OMB Control Number 0648-0213

Public reporting burden is estimated to average 35 minutes per individual response for Catcher Vessel Longline and Pot Gear Daily Fishing Logbook; and 50 minutes for Catcher/processor Longline and Pot Gear Daily Cumulative Production Logbook.

OMB Control Number 0648-0272

Public reporting burden is estimated to average 15 minutes per individual response for Prior Notice of Landing.

OMB Control Number 0648-0353

Public reporting burden is estimated to average 15 minutes per individual response to mark longline pot gear; 15 minutes for IFQ Sablefish Longline Pot Gear: Vessel Registration and Request for Pot Gear Tags; and 15 minutes for IFQ Sablefish Longline Pot Gear: Request for Replacement of Longline Pot Gear Tags.

OMB Control Number 0648-0445

Public reporting burden is estimated to average 2 hours per individual response for VMS operation; and 12 minutes for VMS check-in report.

OMB Control Number 0648-0711

The cost recovery program is mentioned in this rule. The cost to implement and manage the sablefish IFQ longline pot gear fishery, including the cost of the pot tags, will be included in the annual calculation of NMFS' recoverable costs. These costs will be part of the total management and enforcement costs used in the calculation of the annual fee percentage. For example, when the pot gear tags are ordered, the payment of those tags is charged 100 percent to the IFQ Program for cost recovery purposes. This rule would not change the process that harvesters use to pay cost recovery fees.

The public reporting burden includes the time for reviewing instructions, searching existing data sources, gathering and maintaining the data needed, and completing and reviewing the collection of information.

Public comment is sought regarding: Whether this proposed collection of information is necessary for the proper performance of the functions of the agency, including whether the information shall have practical utility; the accuracy of the burden statements; ways to enhance the quality, utility, and clarity of the information to be collected; and ways to minimize the burden of the collection of information, including through the use of automated collection techniques or other forms of information technology. Send comments on these or any other aspects of the collection of information to NMFS (see ADDRESSES), and by email to OIRA_Submission@omb.eop.gov or fax to 202-395-5806.

Notwithstanding any other provision of the law, no person is required to respond to, nor shall any person be subject to a penalty for failure to comply with, a collection of information subject to the requirements of the PRA, unless that collection of information displays a currently valid OMB control number. All currently approved NOAA collections of information may be viewed at: http://www.cio.noaa.gov/services_programs/prasubs.html.

List of Subjects

50 CFR Part 300

Administrative practice and procedure, Antarctica, Canada, Exports, Fish, Fisheries, Fishing, Imports, Indians, Labeling, Marine resources, Reporting and recordkeeping requirements, Russian Federation, Transportation, Treaties, Wildlife.

50 CFR Part 679

Alaska, Fisheries, Reporting and recordkeeping requirements.

Dated: August 15, 2016.
Samuel D. Rauch III,
Deputy Assistant Administrator for Regulatory Programs, National Marine Fisheries Service.

For the reasons set out in the preamble, 50 CFR parts 300 and 679 are proposed to be amended as follows:

PART 300—INTERNATIONAL FISHERIES REGULATIONS

Subpart E—Pacific Halibut Fisheries

1. The authority citation for part 300, subpart E, continues to read as follows:

Authority: 16 U.S.C. 773-773k.

2. In § 300.61, revise the definitions of “Fishing” and “IFQ halibut” to read as follows:

§ 300.61 Definitions.

* * * * *

Fishing means the taking, harvesting, or catching of fish, or any activity that can reasonably be expected to result in the taking, harvesting, or catching of fish, including:

(1) The deployment of any amount or component part of setline gear anywhere in the maritime area; or

(2) The deployment of longline pot gear as defined in § 679.2 of this title, or component part of that gear in Commission regulatory areas 2C, 3A, 3B, and that portion of Area 4A in the Gulf of Alaska west of Area 3B and east of 170°00′ W. long.

* * * * *

IFQ halibut means any halibut that is harvested with setline gear as defined in this section or fixed gear as defined in § 679.2 of this title while commercial fishing in any IFQ regulatory area defined in § 679.2 of this title.

* * * * *

PART 679—FISHERIES OF THE EXCLUSIVE ECONOMIC ZONE OFF ALASKA

3. The authority citation for part 679 continues to read as follows:

Authority: 16 U.S.C. 773 et seq.; 1801 et seq.; 3631 et seq.; Pub. L. 108-447; Pub. L. 111-281.

4. In § 679.2,

a. In the definition of “Authorized fishing gear,” revise paragraphs (4)(i) and (iii), and add paragraph (4)(iv); and

b. Revise the definition of “IFQ halibut”.

The additions and revisions read as follows:

§ 679.2 Definitions.

* * * * *

Authorized fishing gear * * *

(4) * * *

(i) For sablefish harvested from any GOA reporting area, all longline gear, longline pot gear, and, for purposes of determining initial IFQ allocation, all pot gear used to make a legal landing.

* * * * *

(iii) For halibut harvested from any IFQ regulatory area, all fishing gear composed of lines with hooks attached, including one or more stationary, buoyed, and anchored lines with hooks attached.

(iv) For halibut harvested from IFQ regulatory areas 2C, 3A, 3B, and that portion of Area 4A in the Gulf of Alaska west of Area 3B and east of 170°00′ W. long., all longline pot gear.

* * * * *

IFQ halibut means any halibut that is harvested with setline gear as defined in § 300.61 of this title or fixed gear as defined in this section while commercial fishing in any IFQ regulatory area defined in this section.

* * * * *

5. In § 679.5,

a. Revise paragraph (a)(4)(i);

b. Revise note to the table at paragraph (c)(1)(vi)(B); paragraphs (c)(2)(iii)(A); (c)(3)(i)(B); (c)(3)(ii)(A)(1) and (B)(1); (c)(3)(iv)(A)(2); (c)(3)(iv)(B)(2); and (c)(3)(v)(G);

c. Revise paragraphs (l)(1)(iii)(F) and (G); and

d. Add (l)(1)(iii)(H) and (I).

The additions and revisions read as follows:

§ 679.5 Recordkeeping and reporting (R&R).

(a) * * *

(4) * * *

(i) Catcher vessels less than 60 ft (18.3 m) LOA. Except for vessels using longline pot gear as described in paragraph (c)(3)(i)(B)(1) of this section and the vessel activity report described at paragraph (k) of this section, the owner or operator of a catcher vessel less than 60 ft (18.3 m) LOA is not required to comply with the R&R requirements of this section.

* * * * *

(c) * * *

(1) * * *

(vi) * * *

(B) * * *

* * * * *

Note: CP = catcher/processor; CV = catcher vessel; pot = longline pot or pot-and-line; lgl = longline; trw = trawl; MS = mothership.

* * * * *

(2) * * *

(iii) * * *

(A) If a catcher vessel, record vessel name, ADF&G vessel registration number, FFP number or Federal crab vessel permit number, operator printed name, operator signature, and page number.

* * * * *

(3) * * *

(i) * * *

(B) IFQ halibut, CDQ halibut, and IFQ sablefish fisheries. (1) The operator of a catcher vessel less than 60 ft (18.3 m) LOA, using longline pot gear to harvest IFQ sablefish or IFQ halibut in the GOA must maintain a longline and pot gear DFL according to paragraph (c)(3)(iv)(A)(2) of this section.

(2) Except as described in paragraph (f)(1)(i) of this section, the operator of a catcher vessel 60 ft (18.3 m) or greater LOA in the GOA must maintain a longline and pot gear DFL according to paragraph (c)(3)(iv)(A)(2) of this section, when using longline gear or longline pot gear to harvest IFQ sablefish and when using gear composed of lines with hooks attached, setline gear (IPHC), or longline pot gear to harvest IFQ halibut.

(3) Except as described in paragraph (f)(1)(i) of this section, the operator of a catcher vessel 60 ft (18.3 m) or greater LOA in the BSAI must maintain a longline and pot gear DFL according to paragraph (c)(3)(iv)(A)(2) of this section, when using hook-and-line gear or pot gear to harvest IFQ sablefish, and when using gear composed of lines with hooks attached or setline gear (IPHC) to harvest IFQ halibut or CDQ halibut.

(4) Except as described in paragraph (f)(1)(ii) of this section, the operator of a catcher/processor in the GOA must use a combination of a catcher/processor longline and pot gear DCPL and eLandings according to paragraph (c)(3)(iv)(B)(2) of this section, when using longline gear or longline pot gear to harvest IFQ sablefish and when using gear composed of lines with hooks attached, setline gear (IPHC), or longline pot gear to harvest IFQ halibut.

(5) Except as described in paragraph (f)(1)(ii) of this section, the operator of a catcher/processor in the BSAI must use a combination of a catcher/processor longline and pot gear DCPL and eLandings according to (c)(3)(iv)(B)(2) of this section, when using hook-and-line gear or pot gear to harvest IFQ sablefish, and when using gear composed of lines with hooks attached or setline gear (IPHC) to harvest IFQ halibut or CDQ halibut.

* * * * *

(ii) * * *

(A) * * *

Reporting Time Limits, Catcher Vessel Longline or Pot Gear
Required information | Time limit for recording
(1) FFP number and/or Federal crab vessel permit number (if applicable), IFQ permit numbers (halibut, sablefish, and crab), CDQ group number, halibut CDQ permit number, set number, date and time gear set, date and time gear hauled, beginning and end positions of set, number of skates or pots set, and estimated total hail weight for each set | Within 2 hours after completion of gear retrieval.
* * * * * * *

(B) * * *

Reporting Time Limits, Catcher/Processor Longline or Pot Gear
Required information | Record in DCPL | Submit via eLandings | Time limit for reporting
(1) FFP number and/or Federal crab vessel permit number (if applicable), IFQ permit numbers (halibut, sablefish, and crab), CDQ group number, halibut CDQ permit number, set number, date and time gear set, date and time gear hauled, beginning and end positions of set, number of skates or pots set, and estimated total hail weight for each set | X |  | Within 2 hours after completion of gear retrieval.
* * * * * * *

* * * * *

(iv) * * *

(A) * * *

(2) If a catcher vessel identified in paragraph (c)(3)(i)(A)(1) or (c)(3)(i)(B)(1) through (3) of this section is active, the operator must record in the longline and pot gear DFL, for one or more days on each logsheet, the information listed in paragraphs (c)(3)(v), (vi), (viii), and (x) of this section.

* * * * *

(B) * * *

(2) If a catcher/processor identified in paragraph (c)(3)(i)(A)(2) or (c)(3)(i)(B)(4) through (5) of this section is active, the operator must record in the catcher/processor longline and pot gear DCPL the information listed in paragraphs (c)(3)(v) and (vi) of this section and must record in eLandings the information listed in paragraphs (c)(3)(v), (vii), and (ix) of this section.

* * * * *

(v) * * *

(G) Gear type. Use a separate logsheet for each gear type. Place a check mark in the box for the gear type used to harvest the fish or crab. Record the information from the following table for the appropriate gear type on the logsheet. If the gear type is the same on subsequent logsheets, place a check mark in the box instead of re-entering the gear type information on the next logsheet.

If gear type is . . . | Then . . .
(1) Other gear | If gear is other than those listed within this table, indicate “Other” and describe.
(2) Pot gear (includes pot-and-line and longline pot) | (i) If using longline pot gear in the GOA, enter the length of longline pot set to the nearest foot, the size of pot in inches (width by length by height or diameter), and spacing of pots to the nearest foot.
| (ii) If using longline pot gear in the GOA, enter the number of pots deployed in each set (see paragraph (c)(3)(vi)(F) of this section) and the number of pots lost when the set is retrieved (optional, but may be required by IPHC regulations, see §§ 300.60 through 300.65 of this title).
| (iii) If using pot gear, enter the number of pots deployed in each set (see paragraph (c)(3)(vi)(F) of this section) and the number of pots lost when the set is retrieved (optional, but may be required by IPHC regulations, see §§ 300.60 through 300.65 of this title).
(3) Hook-and-line gear | Indicate: (i) Whether gear is fixed hook (conventional or tub), autoline, or snap (optional, but may be required by IPHC regulations, see §§ 300.60 through 300.65 of this title).
| (ii) Number of hooks per skate (optional, but may be required by IPHC regulations, see §§ 300.60 through 300.65 of this title), length of skate to the nearest foot (optional, but may be required by IPHC regulations, see §§ 300.60 through 300.65 of this title), size of hooks, and hook spacing in feet.
| (iii) Enter the number of skates set and number of skates lost (optional, but may be required by IPHC regulations, see §§ 300.60 through 300.65 of this title).
| (iv) Seabird avoidance gear code(s) (see § 679.24(e) and Table 19 to this part).
| (v) Enter the number of mammals sighted while hauling gear next to the mammal name: sperm, orca, and other (optional, but may be required by IPHC regulations, see §§ 300.60 through 300.65 of this title).
| (vi) Enter the number of sablefish, halibut, other fish, or hooks damaged found while hauling gear (optional, but may be required by IPHC regulations, see §§ 300.60 through 300.65 of this title).

* * * * *

(l) * * *

(1) * * *

(iii) * * *

(F) IFQ regulatory area(s) in which the IFQ halibut, CDQ halibut, or IFQ sablefish were harvested;

(G) IFQ permit number(s) that will be used to land the IFQ halibut, CDQ halibut, or IFQ sablefish;

(H) Gear type used to harvest the IFQ sablefish or IFQ halibut (see Table 15 to this part); and

(I) If using longline pot gear in the GOA, report the number of pots set, the number of pots lost, and the number of pots left deployed on the fishing grounds.

* * * * *

6. In § 679.7,

a. Revise paragraph (a)(6) introductory text, (a)(6)(i), (a)(13) introductory text, (a)(13)(ii) introductory text, and (a)(13)(iv); and

b. Add paragraphs (f)(17) through (25).

The additions and revisions read as follows:

§ 679.7 Prohibitions.

* * * * *

(a) * * *

(6) Gear. Deploy any trawl, longline, longline pot, pot-and-line, or jig gear in an area when directed fishing for, or retention of, all groundfish by operators of vessels using that gear type is prohibited in that area, except that this paragraph (a)(6) shall not prohibit:

(i) Deployment of fixed gear, as defined in § 679.2 under “Authorized fishing gear,” by an operator of a vessel fishing for IFQ halibut during the fishing period prescribed in the annual management measures published in the Federal Register pursuant to § 300.62 of this title.

* * * * *

(13) Halibut. With respect to halibut caught with fixed gear, as defined in § 679.2 under the definition of “Authorized fishing gear,” deployed from a vessel fishing for groundfish, except for vessels fishing for halibut as prescribed in the annual management measures published in the Federal Register pursuant to § 300.62 of this title:

* * * * *

(ii) Release halibut caught with longline gear by any method other than—

* * * * *

(iv) Allow halibut caught with longline gear to contact the vessel, if such contact causes, or is capable of causing, the halibut to be stripped from the hook.

* * * * *

(f) * * *

(17) Deploy, conduct fishing with, or retrieve longline pot gear in the GOA before the start or after the end of the IFQ sablefish fishing period specified in § 679.23(g)(1).

(18) Deploy, conduct fishing with, retrieve, or retain IFQ sablefish or IFQ halibut from longline pot gear in the GOA:

(i) In excess of the pot limits specified in § 679.42(l)(5)(ii); and

(ii) Without a pot tag attached to each pot in accordance with § 679.42(l)(4).

(19) Deploy, conduct fishing with, or retain IFQ sablefish or IFQ halibut in the GOA from a pot with an attached pot tag that has a serial number assigned to another vessel or has been reported lost, stolen, or mutilated to NMFS in a request for a replacement pot tag as described in § 679.42(l)(3)(iii).

(20) Deploy longline pot gear to fish IFQ sablefish in the GOA without marking the gear in accordance with § 679.24(a).

(21) Fail to retrieve and remove from the fishing grounds all deployed longline pot gear that is assigned to, and used by, a catcher vessel to fish IFQ sablefish in the Southeast Outside District of the GOA when the vessel makes an IFQ landing.

(22) Fail to redeploy or remove from the fishing grounds all deployed longline pot gear that is assigned to, and used by, a catcher/processor within five days of deploying the gear to fish IFQ sablefish in the Southeast Outside District of the GOA.

(23) Fail to redeploy or remove from the fishing grounds all deployed longline pot gear that is assigned to, and used by, a catcher vessel or a catcher/processor within five days of deploying the gear to fish IFQ sablefish in the West Yakutat District of the GOA and the Central GOA regulatory area.

(24) Fail to redeploy or remove from the fishing grounds all deployed longline pot gear that is assigned to, and used by, a catcher vessel or a catcher/processor within seven days of deploying the gear to fish IFQ sablefish in the Western GOA regulatory area.

(25) Operate a catcher vessel or a catcher/processor using longline pot gear to fish IFQ sablefish or IFQ halibut in the GOA and fail to use functioning VMS equipment as required in § 679.42(k)(2).

* * * * *

7. In § 679.20, revise paragraphs (a)(4)(i), (a)(4)(ii) heading, and (a)(4)(ii)(A) to read as follows:

§ 679.20 General limitations.

* * * * *

(a) * * *

(4) * * *

(i) Eastern GOA regulatory area—(A) Fixed gear. Vessels in the Eastern GOA regulatory area using fixed gear will be allocated 95 percent of the sablefish TAC.

(B) Trawl gear. Vessels in the Eastern GOA regulatory area using trawl gear will be allocated 5 percent of the sablefish TAC for bycatch in other trawl fisheries.

(ii) Central and Western GOA regulatory areas—(A) Fixed gear. Vessels in the Central and Western GOA regulatory areas using fixed gear will be allocated 80 percent of the sablefish TAC in each of the Central and Western GOA regulatory areas.

* * * * *

8. In § 679.23, revise paragraph (g)(2) to read as follows:

§ 679.23 Seasons.

* * * * *

(g) * * *

(2) Except for catches of sablefish with longline pot gear in the GOA, catches of sablefish by fixed gear during other periods may be retained up to the amounts provided for by the directed fishing standards specified at § 679.20 when made by an individual aboard the vessel who has a valid IFQ permit and unused IFQ in the account on which the permit was issued.

* * * * *

9. In § 679.24,

a. Add paragraphs (a)(3) and (b)(1)(iii); and

b. Revise paragraphs (c)(2)(i)(A) and (B); and (c)(3).

The additions and revisions read as follows:

§ 679.24 Gear limitations.

* * * * *

(a) * * *

(3) Each end of a set of longline pot gear deployed to fish IFQ sablefish in the GOA must have attached a cluster of four or more marker buoys including one hard buoy ball marked with the capital letters “LP” in accordance with paragraph (a)(2) of this section, a flag mounted on a pole, and radar reflector floating on the sea surface.

(b) * * *

(1) * * *

(iii) While directed fishing for IFQ sablefish in the GOA.

* * * * *

(c) * * *

(2) * * *

(i) * * *

(A) No person may use any gear other than hook-and-line, longline pot, and trawl gear when fishing for sablefish in the Eastern GOA regulatory area.

(B) No person may use any gear other than hook-and-line gear and longline pot gear to engage in directed fishing for IFQ sablefish.

* * * * *

(3) Central and Western GOA regulatory areas; sablefish as prohibited species. Operators of vessels using gear types other than hook-and-line, longline pot, and trawl gear in the Central and Western GOA regulatory areas must treat any catch of sablefish in these areas as a prohibited species as provided by § 679.21(a).

* * * * *

10. In § 679.42,

a. Revise paragraphs (b)(1) and (2);

b. Revise paragraphs (k)(1) and (k)(2); and

c. Add paragraph (l).

The additions and revisions read as follows:

§ 679.42 Limitations on use of QS and IFQ.

* * * * *

(b) * * *

(1) IFQ Fisheries. Authorized fishing gear to harvest IFQ halibut and IFQ sablefish is defined in § 679.2.

(i) IFQ halibut. IFQ halibut must not be harvested with trawl gear in any IFQ regulatory area, or with pot gear in any IFQ regulatory area in the BSAI.

(ii) IFQ sablefish. IFQ sablefish must not be harvested with trawl gear in any IFQ regulatory area, or with pot-and-line gear in the GOA. A vessel operator using longline pot gear in the GOA to fish for IFQ sablefish must comply with the GOA sablefish longline pot gear requirements in paragraph (l) of this section.

(2) Seabird avoidance gear and methods. The operator of a vessel using hook-and-line gear authorized at § 679.2 while fishing for IFQ halibut, CDQ halibut, or IFQ sablefish must comply with requirements for seabird avoidance gear and methods set forth at § 679.24(e).

* * * * *

(k) * * *

(1) Bering Sea or Aleutian Islands—(i) General. Any vessel operator who fishes for IFQ sablefish in the Bering Sea or Aleutian Islands must possess a transmitting VMS transmitter while fishing for IFQ sablefish.

(ii) VMS requirements. (A) The operator of the vessel must comply with VMS requirements at § 679.28(f)(3) through (5); and

(B) The operator of the vessel must contact NMFS at 800-304-4846 (option 1) between 0600 and 0000 A.l.t. and receive a VMS confirmation number at least 72 hours prior to fishing for IFQ sablefish in the Bering Sea or Aleutian Islands.

(2) Gulf of Alaska. (i) General. A vessel operator using longline pot gear to fish for IFQ sablefish in the Gulf of Alaska must possess a transmitting VMS transmitter while fishing for sablefish.

(ii) VMS requirements. (A) The operator of the vessel must comply with VMS requirements at § 679.28(f)(3) through (5); and

(B) The operator of the vessel must contact NMFS at 800-304-4846 (option 1) between 0600 and 0000 A.l.t. and receive a VMS confirmation number at least 72 hours prior to using longline pot gear to fish for IFQ sablefish in the Gulf of Alaska.

(l) GOA sablefish longline pot gear requirements. Additional regulations that implement specific requirements for any vessel operator who fishes for IFQ sablefish in the GOA using longline pot gear are set out under: § 300.61 Definitions, § 679.2 Definitions, § 679.5 Recordkeeping and reporting (R&R), § 679.7 Prohibitions, § 679.20 General limitations, § 679.23 Seasons, § 679.24 Gear limitations, and § 679.51 Observer requirements for vessels and plants.

(1) Applicability. Any vessel operator who fishes for IFQ sablefish with longline pot gear in the GOA must comply with the requirements of this paragraph (l). The IFQ regulatory areas in the GOA include the Southeast Outside District of the GOA, the West Yakutat District of the GOA, the Central GOA regulatory area, and the Western GOA regulatory area.

(2) General. To use longline pot gear to fish for IFQ sablefish in the GOA, a vessel operator must:

(i) Request and be issued pot tags from NMFS as specified in paragraph (l)(3);

(ii) Use pot tags as specified in paragraph (l)(4);

(iii) Deploy and retrieve longline pot gear as specified in paragraph (l)(5);

(iv) Retain IFQ halibut caught in longline pot gear if sufficient halibut IFQ is held by persons on board the vessel as specified in paragraph (l)(6); and

(v) Comply with other requirements as specified in paragraph (l)(7).

(3) Pot tags. (i) Request for pot tags. (A) The owner of a vessel that uses longline pot gear to fish for IFQ sablefish in the GOA must use pot tags issued by NMFS. A vessel owner may only receive pot tags from NMFS for each vessel that uses longline pot gear to fish for IFQ sablefish in the GOA by submitting a complete IFQ Sablefish Longline Pot Gear Vessel Registration and Request for Pot Gear Tags form according to form instructions. The form is located on the NMFS Alaska Region Web site at alaskafisheries.noaa.gov.

(B) The vessel owner must specify the number of requested pot tags for each vessel for each IFQ regulatory area in the GOA (up to the maximum number of pots specified in paragraph (l)(5)(ii) of this section) on the IFQ Sablefish Longline Pot Gear Vessel Registration and Request for Pot Gear Tags form.

(ii) Issuance of pot tags. (A) Upon submission of a completed IFQ Sablefish Longline Pot Gear Vessel Registration and Request for Pot Gear Tags form, NMFS will assign each pot tag to the vessel specified on the form.

(B) Each pot tag will be a unique color that is specific to the IFQ regulatory area in the GOA in which it must be deployed and imprinted with a unique serial number.

(C) NMFS will send the pot tags to the vessel owner at the address provided on the IFQ Sablefish Longline Pot Gear Vessel Registration and Request for Pot Gear Tags form.

(iii) Request for pot tag replacement. (A) The vessel owner may submit a request to NMFS to replace pot tags that are lost, stolen or mutilated.

(B) The vessel owner to whom the lost, stolen or mutilated pot tag was issued must submit a complete IFQ Sablefish Request for Replacement of Longline Pot Gear Tags form according to form instructions. The form is located on the NMFS Alaska Region Web site at alaskafisheries.noaa.gov.

(C) A complete form must be signed by the vessel owner and is a sworn affidavit to NMFS indicating the reason for the request for a replacement pot tag or pot tags and the number of replacement pot tags requested by IFQ regulatory area.

(D) NMFS will review a request to replace a pot tag or tags and will issue the appropriate number of replacement pot tags. The total number of pot tags issued to a vessel owner for an IFQ regulatory area in the GOA cannot exceed the maximum number of pots authorized for use by a vessel in that IFQ regulatory area specified in paragraph (l)(5)(ii) of this section. The total number of pot tags issued to a vessel owner for an IFQ regulatory area in the GOA equals the sum of the number of pot tags issued for that IFQ regulatory area that have not been replaced plus the number of replacement pot tags issued for that IFQ regulatory area.

(iv) Annual vessel registration and pot tag assignment. (A) The owner of a vessel that uses longline pot gear to fish for IFQ sablefish in the GOA must annually register the vessel with NMFS and specify the pot tags that NMFS will assign to the vessel. Pot tags must be assigned to only one vessel each year.

(B) To register a vessel and assign pot tags, the vessel owner must annually submit a complete IFQ Sablefish Longline Pot Gear Vessel Registration and Request for Pot Gear Tags form to NMFS.

(1) The vessel owner must specify the vessel to be registered on the IFQ Sablefish Longline Pot Gear Vessel Registration and Request for Pot Gear Tags form. The specified vessel must have a valid ADF&G vessel registration number.

(2) The vessel owner must specify on the IFQ Sablefish Longline Pot Gear Vessel Registration and Request for Pot Gear Tags form either that the vessel owner is requesting that NMFS assign pot tags to a vessel to which the pot tags were previously assigned or that the vessel owner is requesting new pot tags from NMFS.

(4) Using pot tags. (i) Each pot used to fish for IFQ sablefish in the GOA must be identified with a valid pot tag. A valid pot tag is:

(A) Issued by NMFS according to paragraph (l)(3) of this section;

(B) The color specific to the regulatory area in which it will be used; and

(C) Inscribed with a legible unique serial number.

(ii) A valid pot tag must be attached to each pot on board the vessel to which the pot tags are assigned before the vessel departs port to fish.

(iii) A valid pot tag must be attached to a pot bridge or cross member such that the entire pot tag is visible and not obstructed.

(5) Restrictions on GOA longline pot gear deployment and retrieval—(i) General.

(A) A vessel operator must mark longline pot gear used to fish IFQ sablefish in the GOA as specified in § 679.24(a).

(B) A vessel operator must deploy and retrieve longline pot gear to fish IFQ sablefish in the GOA only during the sablefish fishing period specified in § 679.23(g)(1).

(ii) Pot limits. A vessel operator is limited to deploying a maximum number of pots to fish IFQ sablefish in each IFQ regulatory area in the GOA.

(A) In the Southeast Outside District of the GOA, a vessel operator is limited to deploying a maximum of 120 pots.

(B) In the West Yakutat District of the GOA, a vessel operator is limited to deploying a maximum of 120 pots.

(C) In the Central GOA regulatory area, a vessel operator is limited to deploying a maximum of 300 pots.

(D) In the Western GOA regulatory area, a vessel operator is limited to deploying a maximum of 300 pots.

(iii) Gear retrieval. (A) In the Southeast Outside District of the GOA, a catcher vessel operator must retrieve and remove from the fishing grounds all longline pot gear that is assigned to the vessel and deployed to fish IFQ sablefish when the vessel makes an IFQ landing.

(B) In the Southeast Outside District of the GOA, a catcher/processor must redeploy or remove from the fishing grounds all longline pot gear that is assigned to the vessel and deployed to fish IFQ sablefish within five days of deploying the gear.

(C) In the West Yakutat District of the GOA and the Central GOA regulatory area, a vessel operator must redeploy or remove from the fishing grounds all longline pot gear that is assigned to the vessel and deployed to fish IFQ sablefish within five days of deploying the gear.

(D) In the Western GOA regulatory area, a vessel operator must redeploy or remove from the fishing grounds all longline pot gear that is assigned to the vessel and deployed to fish IFQ sablefish within seven days of deploying the gear.

(iv) Longline pot gear used on multiple vessels. Longline pot gear assigned to one vessel and deployed to fish IFQ sablefish in the GOA must be removed from the fishing grounds, returned to port, and must have only one set of the appropriate vessel-specific pot tags before being deployed by another vessel to fish IFQ sablefish in the GOA.

(6) Retention of halibut. (i) A vessel operator who fishes for IFQ sablefish using longline pot gear must retain IFQ halibut if:

(A) The IFQ halibut is caught in IFQ regulatory areas 2C, 3A, 3B, and that portion of Area 4A in the GOA west of Area 3B and east of 170°00' W. long.; and

(B) An IFQ permit holder on board the vessel has unused halibut IFQ for the IFQ regulatory area fished and IFQ vessel category.

(7) Other requirements. A vessel operator who fishes for IFQ sablefish using longline pot gear in the GOA must:

(i) Complete a longline and pot gear Daily Fishing Logbook (DFL) or Daily Cumulative Production Logbook (DCPL) as specified in § 679.5(c); and

(ii) Comply with Vessel Monitoring System (VMS) requirements specified in paragraph (k)(2) of this section.

11. In § 679.51, revise paragraphs (a)(1)(i) introductory text and (a)(1)(i)(B) to read as follows:

§ 679.51 Observer requirements for vessels and plants.

* * * * *

(a) * * *

(1) * * *

(i) Vessel classes in partial coverage category. Unless otherwise specified in paragraph (a)(2) of this section, the following catcher vessels and catcher/processors are in the partial observer coverage category when fishing for halibut or when directed fishing for groundfish in a federally managed or parallel groundfish fishery, as defined at § 679.2:

* * * * *

(B) A catcher vessel when fishing for halibut while carrying a person named on a permit issued under § 679.4(d)(1)(i), (d)(2)(i), or (e)(2), or for IFQ sablefish, as defined at § 679.2, while carrying a person named on a permit issued under § 679.4(d)(1)(i) or (d)(2)(i); or

* * * * *

12. In Table 15 to part 679, revise entries for “Pot”, “Authorized gear for sablefish harvested from any GOA reporting area”, and “Authorized gear for halibut harvested from any IFQ regulatory area”, and add entry for “Authorized gear for halibut harvested from any IFQ regulatory area in the BSAI” to read as follows:

Table 15 to Part 679—Gear Codes, Descriptions, and Use Gear Codes, Descriptions, and Use
[X indicates where this code is used]
Name of gear | Use alphabetic code to complete the following:: Alpha gear code | Use alphabetic code to complete the following:: NMFS logbooks | Use alphabetic code to complete the following:: Electronic check-in/check-out | Use numeric code to complete the following:: Numeric gear code | Use numeric code to complete the following:: IERS eLandings | Use numeric code to complete the following:: ADF&G COAR
NMFS AND ADF&G GEAR CODES
* * * * * * *
Pot (includes longline pot and pot-and-line) | POT | X | X | 91 | X | X
* * * * * * *
FIXED GEAR
Authorized gear for sablefish harvested from any GOA reporting area | All longline gear (hook-and-line, jig, troll, and handline) and longline pot gear. For purposes of determining initial IFQ allocation, all pot gear used to make a legal landing.
* * * * * * *
Authorized gear for halibut harvested from any IFQ regulatory area in the GOA | All fishing gear composed of lines with hooks attached, including one or more stationary, buoyed, and anchored lines with hooks attached and longline pot gear.
Authorized gear for halibut harvested from any IFQ regulatory area in the BSAI | All fishing gear composed of lines with hooks attached, including one or more stationary, buoyed, and anchored lines with hooks attached.

[FR Doc. 2016-19795 Filed 8-18-16; 8:45 am]

BILLING CODE 3510-22-P